DEPARTMENT OF HEALTH AND HUMAN SERVICES

Centers for Medicare & Medicaid Services

42 CFR Parts 410, 414, 415, 421, 423, 425, 486, and 495

[CMS-1590-CN]

RIN 0938-AR11

Medicare Program; Revisions to Payment Policies Under the Physician Fee Schedule, DME Face-to-Face Encounters, Elimination of the Requirement for Termination of Non-Random Prepayment Complex Medical Review and Other Revisions to Part B for CY 2013

AGENCY: Centers for Medicare & Medicaid Services (CMS), HHS.

ACTION: Correction of final rule with comment period.

SUMMARY: This document corrects technical errors that appeared in the final rule with comment period published in the Federal Register on November 16, 2012, entitled “Medicare Program; Revisions to Payment Policies Under the Physician Fee Schedule, DME Face-to-Face Encounters, Elimination of the Requirement for Termination of Non-Random Prepayment Complex Medical Review and Other Revisions to Part B for CY 2013.”

DATES: The correcting document is effective August 12, 2013 and is applicable beginning January 1, 2013.

FOR FURTHER INFORMATION CONTACT: Elliott Isaac, (410) 786-4735.

SUPPLEMENTARY INFORMATION:

I. Background

In FR Doc. 2012-26900 of November 16, 2012 (77 FR 68892 through 69373), there were a number of technical errors that are identified and corrected in the Correction of Errors section below. These corrections are effective January 1, 2013. We note that the Addenda A through H for the CY 2013 PFS final rule with comment period as corrected in this correction notice are available on the CMS Web site at www.cms.gov//PhysicianFeeSched/.

II. Summary of Errors

A. Summary of Errors in the Preamble

On pages 68904 through 68906, in Table 3: Calculation of PE RVUs under Methodology for Selected Codes, the PE RVUs listed in the table are incorrect.

On page 68907, in our discussion of the changes to direct PE inputs for specific services, we made a typographical error in identifying the calendar years.

On page 68957, in our discussion of Medicare telehealth services, we inadvertently omitted a discussion of psychotherapy services.

On page 68958, in our discussion of therapy services, we inadvertently omitted language regarding the claims-based data collection strategy for therapy services.

On page 68965, we inadvertently omitted language in our discussion on non-payable G-codes on beneficiary functional status.

On page 68966, we inadvertently included language.

On pages 68967 and 68968, we inadvertently made errors in the descriptors for G-codes in Table 21: G-Codes for Claims-Based Functional Reporting for CY 2013.

On page 69033, we inadvertently omitted a code-specific direct PE input.

On pages 69042 and 69043, in our discussion of the global period for CPT code 22586, we made a typographical error in the code descriptor.

On page 69051,

a. We inadvertently used the wrong descriptor for CPT 36221.

b. We inadvertently omitted two paragraphs regarding our treatment of CPT codes 37197 and 37214.

On pages 69071 through 69073, we made clerical errors in table references.

On page 69074, in our discussion of pricing supply and equipment items, we inadvertently omitted a paragraph detailing the items for which we did not receive adequate information and therefore could not price them for the interim final values in the CY 2013 rule.

On pages 69077 through 69128, we made numerous typographical errors and technical errors in Table 74: CPT Codes with Refined direct PE Recommendations for CY 2013 Interim Codes and therefore are correcting the table.

On page 69138, we made typographical errors in the CY 2013 PFS conversion factor (CF).

On page 69138, we made typographical errors in the CY 2013 PFS CF in Table 87: Calculation of the CY 2013 PFS CF.

On page 69139, in Table 88: Calculation of the CY 2013 Anesthesia CF, we inadvertently listed the incorrect anesthesia CF.

On page 69145, we inadvertently referred to “physician's order” instead of “valid prescription.”

On page 69212, due to a typographical error, the title of PQRS Measure 190 referred to in the comment bullet was not correct.

On pages 69215 through 69267, the notes after Table 95: Individual Quality Measures for the Physician Quality Reporting System Proposed to be Available for Reporting via Claims, Registry, EHR, or GRPO Web Interface Beginning in 2013 or 2014* were inadvertently omitted.

On page 69237, in Table 95: Individual Quality Measures for the Physician Quality Reporting System Proposed to be Available for Reporting via Claims, Registry, EHR, or GRPO Web Interface Beginning in 2013 or 2014*, due to a typographical error, Measures #189 and 190 were incorrectly listed as available for reporting under PQRS.

On page 69269, in Table 96: PQRS Quality Measures Available for Reporting for Group Practices Using the GPRO Web Interface for 2013 and Beyond, due to a typographical error, the description of the measure “Medication Reconciliation” is incorrect.

On page 69277, in Table 108: HIV/AIDS Measures Group, due to a clerical error, there are measures listed that have lost their NQF endorsement and are therefore no longer being maintained by the respective measure owner.

On page 69300, due to a clerical error, we stated the deadlines for requesting an informal review for the 2012 and 2013 eRx incentives incorrectly. The regulation at § 414.92(g) correctly states that eligible professionals and group practices must submit an informal review request for the 2012 and 2013 incentives within 90 days of the release of the feedback reports. The preamble does not reflect this same regulation text. Therefore, we are revising the preamble to reflect the regulation text at § 414.92(g).

On pages 69344 through 69345, in Table 134: CY 2013 PFS Final Rule with Comment Period Estimated Impact on Total Allowed Charges by Specialty, due to technical errors in the calculations of the impacts, there were errors in the total estimated impacts and the estimated impacts for the following specialties: 01—ALLERGY/IMMUNOLOGY, 02—ANESTHESIOLOGY, 10—FAMILY PRACTICE, 13—GENERAL SURGERY, 18—INTERNAL MEDICINE, 19—INTERVENTIONAL PAIN MANAGEMENT, 21—MULTISPECIALTY CLINIC/OTHER PHY, 34—PLASTIC SURGERY, 41—UROLOGY, 49—NURSE ANES/ANES ASST.

On page 69345, at the end of Table 134: CY 2013 PFS Final Rule with Comment Period Estimated Impact on Total Allowed Charges by Specialty, we made clerical errors in the first footnote.

On pages 69347 through 69348, in Table 135: CY 2013 PFS Final Rule with Comment Period Estimated Impact on Total Allowed Charges by Specialty by Selected Policy, due to technical errors in calculations of the impacts, there were errors in the estimates of the total impact and on the impact for the following specialties: 01—ALLERGY/IMMUNOLOGY, 02—ANESTHESIOLOGY, 13—GENERAL SURGERY, 18—INTERNAL MEDICINE, 19—INTERVENTIONAL PAIN MANAGEMENT, 21—MULTISPECIALTY CLINIC/OTHER PHY, 41—UROLOGY, 49—NURSE ANES/ANES ASST.

On page 69348, at the end of Table 135: CY 2013 PFS Final Rule with Comment Period Estimated Impact on Total Allowed Charges by Specialty by Selected Policy, we made a clerical error in the first footnote.

On page 69350 through 69351, in Table 136: Impact of Final Rule with Comment Period on CY 2013 Payment for Selected Procedures, we made technical errors in the calculation of the impacts.

On page 69351, in footnotes 3 and 4 at the end of Table 136: Impact of Final Rule with Comment Period on CY 2013 Payment for Selected Procedures, we inadvertently listed the incorrect 2012 conversion factor.

B. Summary and Correction of Errors in the Addenda on the CMS Web site

Technical errors in the creation of the direct practice expense database resulted in incorrect direct PE inputs for CPT codes: 11307, 11313, 13100, 13101, 13102, 13120, 13121, 13122, 13131, 13132, 13133, 13150, 13151, 13152, 31231, 32554, 32555, 32556, 32557, 35475, 35476, 36221, 36222, 36223, 36224, 36225, 36226, 37197, 52224, 64612, 65800, 72040, 72050, 72052, 72069, 72193, 72194, 74160, 74170, 74177, 74178, 76872, 77301, 92081, 92082, 92083, 92235, 92286, 93925, 93970, 95010, 95015, 95017, 95018, 95782, 95783, and 97150. As a result of these errors, the budget neutrality adjustment used in calculating PE RVUs was incorrect, resulting in incorrect values for other PE RVUs in Addenda B and C. These errors are corrected in the revised Direct PE Input Database available on the CMS Web site at www.cms.gov//PhysicianFeeSched/. Resulting changes to PE RVUs are reflected in the corrected Addenda B and C posted on the CMS Web site at www.cms.gov//PhysicianFeeSched/.

Due to a technical error, although the physician time records for CPT codes 22841, 51798, 95990, 96913, and 97602 were properly removed from the physician time file per final policy discussed in the CY 2013 final rule with comment period (77 FR 68926), these time records were inadvertently used in the creation of the PE RVUs. This technical error is corrected in the revised CY 2013 Addendum B posted to the CMS Web site at www.cms.gov//PhysicianFeeSched/.

Due a technical error in applying a change made in the final rule in calculating the impact of the ophthalmology MPPR used in the PE methodology, as described on page 68901, the “CY 2012 Utilization data Crosswalk to CY 2013” file posted on the CMS Web site contained errors. This also resulted in errors in Addenda B and C files posted on the CMS Web site. These addenda have been corrected as a result of the changes made in this correction notice and the corrected Addenda B and C files are posted on the CMS Web site. www.cms.gov//PhysicianFeeSched/.

Due to a technical error in calculating the anesthesia inputs, the PE RVUs for all services reflected in Addenda B and C posted on the CMS Web site were inaccurate. Resulting changes to the PE RVUs are reflected in the corrected Addenda B and C.

Due to a technical error, in Addendum B, row 8744 containing CPT/HCPC 92287 did not list RVUs for use with both the TC and 26 modifiers. The corrected Addendum B, which is posted on the CMS Web site at www.cms.gov//PhysicianFeeSched/, includes these services and related information.

Due to a technical error in Addendum B, row 9180 containing CPT/HCPC 93657 did not list a PE RVU. The corrected Addendum B, which is posted on the CMS Web site at www.cms.gov//PhysicianFeeSched/ reflects this change.

Due to a technical error in the posting of Addendum C, the “NA” flags did not display for services when either the facility or nonfacility setting did not contain a value. The corrected Addendum C, which is posted on the CMS Web site at www.cms.gov//PhysicianFeeSched/, reflects the “NA” flags for services that are not valued in the indicated setting.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in the effective date of final rules after the date of their publication in the Federal Register. This 30-day delay in effective date can be waived, however, if an agency finds for good cause that the delay is impracticable, unnecessary, or contrary to the public interest, and the agency incorporates a statement of the findings and its reasons in the rule issued.

This document merely corrects typographical and technical errors in the preamble and addenda of the CY 2013 Physician Fee Schedule final rule with comment period. The provisions of that final rule with comment period have been subjected to notice and comment procedures. The corrections contained in this document are consistent with, and do not make substantive changes to, the policies and payment methodologies that were adopted in the CY 2013 PFS final rule with comment period. As a result, the corrections made through this correcting document are intended to ensure that the CY 2013 PFS final rule with comment period accurately reflects the policies adopted in that rule. Therefore, we find for good cause that it is unnecessary and would be contrary to the public interest to undertake further notice and comment procedures to incorporate the corrections in this document into the CY 2013 PFS final rule with comment period. For the same reasons, we find that there is good cause to waive the 30-day delay in the effective date for these corrections.

Further, we believe that it is in the public interest to ensure that the CY 2013 PFS final rule with comment period accurately reflects our policies as of the date they take effect. Therefore, we find that delaying the effective date of these corrections beyond the effective date of the final rule with comment period would be contrary to the public interest. In so doing, we find good cause to waive the 30-day delay in effective date.

IV. Correction of Errors

In FR Doc. 2012-26900 of November 16, 2012 (77 FR 68892), make the following corrections:

A. Correction of Errors in the Preamble

1. On pages 68904 through 68906, in Table 3: Calculation of PE RVUs Under Methodology for Selected Codes, the table is corrected to read as follows:

Table 3—Calculation of PE RVUS Under Methodology for Selected Codes
| Step | Source | Formula | 99213 Office visit, est nonfacility | 33533 CABG, arterial, single facility | 71020 Chest x-ray nonfacility | 71020-TC Chest x-ray nonfacility | 71020-26 Chest x-ray nonfacility | 93000 ECG, complete nonfacility | 93005 ECG, tracing nonfacility | 93010 ECG, report nonfacility
(1) Labor cost (Lab) | Step 1 | AMA |  | 13.32 | 77.52 | 5.74 | 5.74 | 0.00 | 6.12 | 6.12 | 0.00
(2) Supply cost (Sup) | Step 1 | AMA |  | 2.98 | 0.00 | 3.39 | 3.39 | 0.00 | 1.19 | 1.19 | 0.00
(3) Equipment cost (Eqp) | Step 1 | AMA |  | 0.17 | 0.58 | 7.24 | 7.24 | 0.00 | 0.11 | 0.11 | 0.00
(4) Direct cost (Dir) | Step 1 |  | =(1)+(2)+(3) | 16.48 | 78.10 | 16.38 | 16.38 | 0.00 | 7.42 | 7.42 | 0.00
(5) Direct adjustment (Dir. Adj.) | Steps 2-4 | See footnote* |  | 0.5973 | 0.5973 | 0.5973 | 0.5973 | 0.5973 | 0.5973 | 0.5973 | 0.5973
(6) Adjusted Labor | Steps 2-4 | =Labor * Dir Adj | =(1)*(5) | 7.96 | 46.30 | 3.43 | 3.43 | 0.00 | 3.66 | 3.66 | 0.00
(7) Adjusted Supplies | Steps 2-4 | =Eqp * Dir Adj | =(2)*(5) | 1.78 | 0.00 | 2.03 | 2.03 | 0.00 | 0.71 | 0.71 | 0.00
(8) Adjusted Equipment | Steps 2-4 | =Sup * Dir Adj | =(3)*(5) | 0.10 | 0.35 | 4.33 | 4.33 | 0.00 | 0.06 | 0.06 | 0.00
(9) Adjusted Direct | Steps 2-4 |  | =(6)+(7)+(8) | 9.84 | 46.65 | 9.78 | 9.78 | 0.00 | 4.43 | 4.43 | 0.00
(10) Conversion Factor (CF) | Step 5 | PFS |  | 34.0376 | 34.0376 | 34.0376 | 34.0376 | 34.0376 | 34.0376 | 34.0376 | 34.0376
(11) Adj. labor cost converted | Step 5 | =(Lab * Dir Adj)/CF | =(6)/(10) | 0.23 | 1.36 | 0.10 | 0.10 | 0.00 | 0.11 | 0.11 | 0.00
(12) Adj. supply cost converted | Step 5 | =(Sup * Dir Adj)/CF | =(7)/(10) | 0.05 | 0.00 | 0.06 | 0.06 | 0.00 | 0.02 | 0.02 | 0.00
(13) Adj. equipment cost converted | Step 5 | =(Eqp * Dir Adj)/CF | =(8)/(10) | 0.00 | 0.01 | 0.13 | 0.13 | 0.00 | 0.00 | 0.00 | 0.00
(14) Adj. direct cost converted | Step 5 |  | =(11)+(12)+(13) | 0.29 | 1.37 | 0.29 | 0.29 | 0.00 | 0.13 | 0.13 | 0.00
(15) Work RVU | Setup File | PFS |  | 0.97 | 33.75 | 0.22 | 0.00 | 0.22 | 0.17 | 0.00 | 0.17
(16) Dir_pct | Steps 6,7 | Surveys |  | 0.31 | 0.18 | 0.31 | 0.31 | 0.31 | 0.31 | 0.31 | 0.31
(17) Ind_pct | Steps 6,7 | Surveys |  | 0.69 | 0.82 | 0.69 | 0.69 | 0.69 | 0.69 | 0.69 | 0.69
(18) Ind. Alloc. Formula (1st part) | Step 8 | See Step 8 |  | ((14)/(16)*(17) | ((14)/(16)*(17) | ((14)/(16)*(17) | ((14)/(16)*(17) | ((14)/(16)*(17) | ((14)/(16)*(17) | ((14)/(16)*(17) | ((14)/(16)*(17)
(19) Ind. Alloc.(1st part) | Step 8 |  | See 18 | 0.87 | 6.41 | 0.7 | 0.7 | 0 | 0.32 | 0.32 | 0
(20) Ind. Alloc. Formula (2nd part) | Step 8 | See Step 8 |  | (15) | (15) | (15+11) | (11) | (15) | (15+11) | (11) | (15)
(21) Ind. Alloc.(2nd part) | Step 8 |  | See 20 | 0.97 | 33.75 | 0.32 | 0.10 | 0.22 | 0.28 | 0.11 | 0.17
(22) Indirect Allocator (1st + 2nd) | Step 8 |  | =(19)+(21) | 1.84 | 40.16 | 1.03 | 0.81 | 0.22 | 0.60 | 0.43 | 0.17
(23) Indirect Adjustment (Ind. Adj.) | Steps 9-11 | See Footnote** |  | 0.40 | 0.40 | 0.40 | 0.40 | 0.40 | 0.40 | 0.40 | 0.40
(24) Adjusted Indirect Allocator | Steps 9-11 | =Ind Alloc * Ind Adj |  | 0.75 | 16.25 | 0.42 | 0.33 | 0.09 | 0.24 | 0.17 | 0.07
(25) Ind. Practice Cost Index (IPCI) | Steps 12-16 |  |  | 1.08 | 0.79 | 0.92 | 0.92 | 0.92 | 0.92 | 0.92 | 0.92
(26) Adjusted Indirect | Step 17 | = Adj.Ind Alloc * PCI | =(24)*(25) | 0.81 | 12.76 | 0.38 | 0.30 | 0.08 | 0.22 | 0.16 | 0.06
(27) PE RVU | Step 18 | =(Adj Dir + Adj Ind) * budn | =((14)+(26)) * budn | 1.10 | 14.15 | 0.67 | 0.59 | 0.08 | 0.35 | 0.29 | 0.06

2. On page 68907, first column, first paragraph,

a. Line 6, the phrase “CY 2012” is corrected to read “CY 2013.”

b. Line 8, the phrase “CY 2012” is corrected to read “CY 2013.”

3. On page 68957, second column, following Table 18 is corrected by adding the following:

“6. Psychiatry Services

For CY 2013, the CPT Editorial Panel replaced the current psychiatry/psychotherapy CPT codes with a new structure that allows for the separate reporting of E/M codes, eliminates codes based upon the site-of-service, establishes CPT codes for crisis, and creates a series of psychotherapy add-on CPT codes to describe interactive complexity and medication management. Many of these services are included in the list of Medicare telehealth services. For CY 2013, we did not propose any changes in Medicare telehealth payment policies related to the existing services described by these new codes. Therefore, the new codes describing services currently included on the CY 2012 list of Medicare telehealth services will be included on the CY 2013 list of Medicare telehealth services.

In the case of pharmacologic management services, currently on the CY 2012 list of Medicare telehealth services, we note that the CPT Editorial Panel deleted CPT code 90862 (Pharmacologic management, including prescription, use, and review of medication with no more than minimal medical psychotherapy), and that for CY 2013, psychiatrists will bill the appropriate E/M code when furnishing pharmacologic management services. In order to maintain current telehealth policy for these services when furnished to inpatients, we are establishing a new HCPCS G-code, G0459 (Inpatient telehealth, pharmacologic management, including prescription use and review of medication with no more than minimal medical psychotherapy), on an interim basis for CY 2013 that will describe the pharmacologic management service when furnished via telehealth to inpatients.

We will address any other change in telehealth policy regarding psychiatry services in future rulemaking.”.

4. On page 68959, first column, partial line 5, before the phrase “Between 1998-2008,” is corrected to read as follows: “We note that this number does not represent a discrete number of beneficiaries; rather, it represents the total number of beneficiaries receiving therapy services under plans of care from different disciplines and different providers.”.

5. On page 68965, third column, third paragraph, lines 4 and 5, the phrase “a composite score” is corrected to read “an overall composite score.”

6. On page 68966, third column, second full paragraph, lines 19 through 21, the phrase “…functional measures, such as is done with the FOTO Patient tool, for example.” is corrected to read “functional measures.”

7. On page 68967 and 68968, in Table 21: G-Codes for Claims-Based Functional Reporting for CY 2013, the listed entries are corrected to read as follows:

Other PT/OT Primary Functional Limitation
G8990 | Other physical or occupational therapy primary functional limitation, current status, at therapy episode outset and at reporting intervals.
G8991 | Other physical or occupational therapy primary functional limitation, projected goal status, at therapy episode outset, at reporting intervals, and at discharge or to end reporting.
G8992 | Other physical or occupational therapy primary functional limitation, discharge status, at discharge from therapy or to end reporting.
Other PT/OT Primary Functional Limitation
G8993 | Other physical or occupational therapy subsequent functional limitation, current status, at therapy episode outset and at reporting intervals.
G8994 | Other physical or occupational therapy subsequent functional limitation, projected goal status, at therapy episode outset, at reporting intervals, and at discharge or to end reporting.
G8995 | Other physical or occupational therapy subsequent functional limitation, discharge status, at discharge from therapy or to end reporting.
Swallowing
G8996 | Swallowing functional limitation, current status at therapy episode outset and at reporting intervals.
G8997 | Swallowing functional limitation, projected goal status, at therapy episode outset, at reporting intervals, and at discharge or to end reporting.
G8998 | Swallowing functional limitation, discharge status, at discharge from therapy or to end reporting.
Motor Speech
G8999 | Motor speech functional limitation, current status at therapy episode outset and at reporting intervals.
G9186 | Motor speech functional limitation, projected goal status at therapy episode outset, at reporting intervals, and at discharge from or to end reporting.
Spoken Language Comprehension
G9159 | Spoken language comprehension functional limitation, current status at therapy episode outset and at reporting intervals.
G9160 | Spoken language comprehension functional limitation, projected goal status at therapy episode outset, at reporting intervals, and at discharge from or to end reporting.
G9161 | Spoken language comprehension functional limitation, discharge status at discharge from therapy or to end reporting.
Spoken Language Expression
G9162 | Spoken language expression functional limitation, current status at therapy episode outset and at reporting intervals.
G9163 | Spoken language expression functional limitation, projected goal status at therapy episode outset, at reporting intervals, and at discharge from or to end reporting.
G9164 | Spoken language expression functional limitation, discharge status at discharge from therapy or to end reporting.
Attention
G9165 | Attention functional limitation, current status at therapy episode outset and at reporting intervals.
G9166 | Attention functional limitation, projected goal status at therapy episode outset, at reporting intervals, and at discharge from or to end reporting.
G9167 | Attention functional limitation, discharge status at discharge from therapy or to end reporting.
Memory
G9168 | Memory functional limitation, current status at therapy episode outset and at reporting intervals.
G9169 | Memory functional limitation, projected goal status at therapy episode outset, at reporting intervals, and at discharge from or to end reporting.
G9170 | Memory functional limitation, discharge status at discharge from therapy or to end reporting.
Voice
G9171 | Voice functional limitation, current status at therapy episode outset and at reporting intervals.
G9172 | Voice functional limitation, projected goal status at therapy episode outset, at reporting intervals, and at discharge from or to end reporting.
G9173 | Voice functional limitation, discharge status at discharge from therapy or to end reporting.
Other SLP Functional Limitation
G9174 | Other speech language pathology functional limitation, current status at therapy episode outset and at reporting intervals.
G9175 | Other speech language pathology functional limitation, projected goal status at therapy episode outset, at reporting intervals, and at discharge from or to end reporting.
G9176 | Other speech language pathology functional limitation, discharge status at discharge from therapy or to end reporting.

8. On page 69033, in the third column, after second full paragraph, is corrected by adding the following:

“(14) Needle EMG: Electromyography (CPT Codes 95886, 95887)

In establishing interim final direct PE inputs for 2012, CMS refined the AMA RUC's recommendation for CPT codes 95886 (Needle electromyography, each extremity, with related paraspinal areas, when performed, done with nerve conduction, amplitude and latency/velocity study; complete, five or more muscles studied, innervated by three or more nerves or four or more spinal levels (list separately in addition to code for primary procedure)) and 95887 (Needle electromyography, non-extremity (cranial nerve supplied or axial) muscle(s) done with nerve conduction, amplitude and latency/velocity study (list separately in addition to code for primary procedure)) by reducing the number of service period clinical labor minutes to account for preparatory clinical labor tasks associated with both the base and add-on codes. CMS also refined the corresponding equipment minutes.

Comment: Several commenters explained that clinical labor typically requires additional time to prepare the distinct equipment used in furnishing the services described by the add-on codes.

Response: After reviewing the information provided by the commenters, we agree that it would be appropriate to incorporate additional minutes for these codes. Therefore, we are finalizing the direct PE inputs for CPT codes 95886 and 95887 with the additional refinement of adding two minutes to both the service period clinical labor time and the corresponding equipment time. The direct PE inputs are displayed in the final CY 2013 direct PE input database, available on the CMS Web site under downloads for the CY 2013 PFS final rule at www.cms.gov/PhysicianFeeSched/.”.

9. On page 69042, bottom half of the page, last paragraph, last line, the phrase CPT code 99231 visits is corrected to read “99231 (subsequent hospital care, per day, for the evaluation and management of a patient, which requires at least 2 of these 3 key components: A problem focused interval history; a problem focused examination; medical decision making that is straightforward or of low complexity) visits,”.

10. On page 69043, top of page, first column, first partial paragraph, lines 1 and 2, the phrase 99323 visit is corrected to read “99232 (subsequent hospital care, per day, for the evaluation and management of a patient, which requires at least 2 of these 3 key components: An expanded problem focused interval history; an expanded problem focused examination; medical decision making of moderate complexity) visit, 1 CPT code 99238 (hospital discharge day management; 30 minutes or less) visit, and 4 CPT code 99213 (office or other outpatient visit for the evaluation and management of an established patient, which requires at least 2 of these 3 key components: an expanded problem focused history; an expanded problem focused examination; medical decision making of low complexity) visits.”.

11. On page 69051,

a. First column, first full paragraph, lines 2 through 10, the parenthetical ((Non-selective catheter placement, thoracic aorta, with angiography of the extracranial carotid, vertebral, and/or intracranial vessels, unilateral or bilateral, and all associated radiological supervision and interpretation, includes angiography of the cervicocerebral arch, when performed).), is corrected to read: “((Selective catheter placement, common carotid or innominate artery, unilateral, any approach, with angiography of the ipsilateral extracranial carotid circulation and all associated radiological supervision and interpretation, includes angiography of the cervicocerebral arch, when performed).)”.

b. Third column, after last full paragraph, is corrected by adding the following:

“CPT codes 37620, 75940, and 36010 were identified as potentially misvalued through the Codes Reported Together 75 percent or More screen. In response, the CPT Editorial Panel created CPT codes 37191 through 37193 and 37197 to bundle the services together. After clinical review of CPT code 37197 (Transcatheter retrieval, percutaneous, of intravascular foreign body (for example, fractured venous or arterial catheter), includes radiological supervision and interpretation, and imaging guidance (ultrasound or fluoroscopy), when performed), along with the other related bundled services, we believe a work RVU of 6.29 accurately reflects the work involved in furnishing this service. We believe CPT code 37197 involves similar work as CPT code 36247 (Selective catheter placement, arterial system; initial third order or more selective abdominal, pelvic, or lower extremity artery branch, within a vascular family) and should be valued the same. Furthermore, we believe a work RVU of 6.29 appropriately reflects the relative difference in work between this service and related CPT codes 37191, 37192, and 37193. The AMA RUC recommended a work RVU of 6.72 for CPT code 37197, a direct crosswalk to CPT code 36475 (Endovenous ablation therapy of incompetent vein, extremity, inclusive of all imaging guidance and monitoring, percutaneous, radiofrequency; first vein treated). On an interim final basis for CY 2013, we are assigning a work RVU of 6.29 to CPT code 37197.”.

12. On page 69071, lower half of the page, third column,

a. Lines 3 and 4, the phrase “Table KK6 is corrected to read “Table 73.”.

b. Line 10, the phrase “Table KK7” is corrected to read “Table 74.”.

13. On page 69072,

a. First column, first full paragraph, line 1, the phrase “Table KK7” is corrected to read “Table 74.”

b. Second column,

(1) First full paragraph, last line, the phrase “Table 73” is corrected to read “Table 74.”.

(2) Second full paragraph, last line, the phrase “Table 73” is corrected to read “Table 74.”.

c. Third column,

(1) First paragraph, last line, the phrase “Table 73” is corrected to read “Table 74.”.

(2) Second paragraph, lines 23 and 24, the phrase “Table 73” is corrected to read “Table 74.”

14. On page 69073, second column, second full paragraph, last line, the phrase “Table 73” is corrected to read, “Table 74.”

15. On page 69074, first column, following first partial paragraph, is corrected to read as follows:

“We note that we did not receive adequate information for pricing the following new supply and equipment items included in the AMA RUC's CY 2013 direct PE input recommendations: SD276 (Indicator powder), SK115 (Reproduced patient worksheet), SL464 (Atomizer tips, disposable), and ER088 (Infrared illuminator). Therefore, for CY 2013, these supply and equipment items have no price inputs associated with them in the direct PE database. We will consider any newly submitted information regarding appropriate pricing for these supply items as part of our annual supply and equipment price update process.”

16. On pages 69077 through 69128, in Table 74: CPT Codes with Refined Direct PE Recommendations for CY 2013 Interim Codes is corrected to read as follows:

TABLE 74—CPT Codes With Refined Direct PE Recommendations for CY 2013 Interim Codes
CPT Code | CPT Code description | CMS Code | CMS Code description | NonFac/Fac | Labor activity (if applicable) | RUC recommendation or current value (min or qty) | CMS refinement (min or qty) | Comment
11300 | Shave skin lesion 0.5 cm/< | ED004 | camera, digital (6 mexapixel) | NF |  | 29 | 14 | Refined equipment time to reflect typical use exclusive to patient.
|  | EF014 | light, surgical | NF |  | 29 | 14 | Refined equipment time to reflect typical use exclusive to patient.
|  | EF015 | mayo stand | NF |  | 29 | 14 | Refined equipment time to reflect typical use exclusive to patient.
|  | EF031 | table, power | NF |  | 29 | 14 | Refined equipment time to reflect typical use exclusive to patient.
|  | EQ110 | electrocautery-hyfrecator, up to 45 watts | NF |  | 29 | 0 | CMS clinical review; not described as typical in work vignette.
|  | EQ137 | instrument pack, basic ($500-$1499) | NF |  | 29 | 24 | Refined equipment time to reflect typical use exclusive to patient.
|  | EQ351 | Smoke Evacuator(tubing, covering, etc.) with stand | NF |  | 29 | 14 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11301 | Shave skin lesion 0.6-1.0 cm | ED004 | camera, digital (6 mexapixel) | NF |  | 32 | 17 | Refined equipment time to reflect typical use exclusive to patient.
|  | EF014 | light, surgical | NF |  | 32 | 17 | Refined equipment time to reflect typical use exclusive to patient.
|  | EF015 | mayo stand | NF |  | 32 | 17 | Refined equipment time to reflect typical use exclusive to patient.
|  | EF031 | table, power | NF |  | 32 | 17 | Refined equipment time to reflect typical use exclusive to patient.
|  | EQ110 | electrocautery-hyfrecator, up to 45 watts | NF |  | 32 | 0 | CMS clinical review; not described as typical in work vignette.
|  | EQ137 | instrument pack, basic ($500-$1499) | NF |  | 32 | 27 | Refined equipment time to reflect typical use exclusive to patient.
|  | EQ351 | Smoke Evacuator (tubing, covering, etc.) with stand | NF |  | 32 | 17 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11302 | Shave skin lesion 1.1-2.0 cm | ED004 | camera, digital (6 mexapixel) | NF |  | 37 | 20 | Refined equipment time to reflect typical use exclusive to patient.
|  | EF014 | light, surgical | NF |  | 37 | 20 | Refined equipment time to reflect typical use exclusive to patient.
|  | EF015 | mayo stand | NF |  | 37 | 20 | Refined equipment time to reflect typical use exclusive to patient.
|  | EF031 | table, power | NF |  | 37 | 20 | Refined equipment time to reflect typical use exclusive to patient.
|  | EQ110 | electrocautery-hyfrecator, up to 45 watts | NF |  | 37 | 0 | CMS clinical review; not described as typical in work vignette.
|  | EQ137 | instrument pack, basic ($500-$1499) | NF |  | 37 | 30 | Refined equipment time to reflect typical use exclusive to patient.
|  | EQ351 | Smoke Evacuator (tubing, covering, etc.) with stand | NF |  | 37 | 20 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11303 | Shave skin lesion >2.0 cm | ED004 | camera, digital (6 mexapixel) | NF |  | 41 | 22 | Refined equipment time to reflect typical use exclusive to patient.
|  | EF014 | light, surgical | NF |  | 41 | 22 | Refined equipment time to reflect typical use exclusive to patient.
|  | EF015 | mayo stand | NF |  | 41 | 22 | Refined equipment time to reflect typical use exclusive to patient.
|  | EF031 | table, power | NF |  | 41 | 22 | Refined equipment time to reflect typical use exclusive to patient.
|  | EQ110 | electrocautery-hyfrecator, up to 45 watts | NF |  | 41 | 0 | CMS clinical review; not described as typical in work vignette.
|  | EQ137 | instrument pack, basic ($500-$1499) | NF |  | 41 | 32 | Refined equipment time to reflect typical use exclusive to patient.
|  | EQ351 | Smoke Evacuator (tubing, covering, etc.) with stand | NF |  | 41 | 22 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11305 | Shave skin lesion 0.5 cm/< | ED004 | camera, digital (6 mexapixel) | NF |  | 29 | 17 | Refined equipment time to reflect typical use exclusive to patient.
|  | EF014 | light, surgical | NF |  | 29 | 17 | Refined equipment time to reflect typical use exclusive to patient.
|  | EF015 | mayo stand | NF |  | 29 | 17 | Refined equipment time to reflect typical use exclusive to patient.
|  | EF031 | table, power | NF |  | 29 | 17 | Refined equipment time to reflect typical use exclusive to patient.
|  | EQ110 | electrocautery-hyfrecator, up to 45 watts | NF |  | 29 | 0 | CMS clinical review; not described as typical in work vignette.
|  | EQ137 | instrument pack, basic ($500-$1499) | NF |  | 29 | 27 | Refined equipment time to reflect typical use exclusive to patient.
|  | EQ351 | Smoke Evacuator (tubing, covering, etc.) with stand | NF |  | 29 | 17 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11306 | Shave skin lesion 0.6-1.0 cm | ED004 | camera, digital (6 mexapixel) | NF |  | 31 | 25 | Refined equipment time to reflect typical use exclusive to patient.
|  | EF014 | light, surgical | NF |  | 31 | 25 | Refined equipment time to reflect typical use exclusive to patient.
|  | EF015 | mayo stand | NF |  | 31 | 25 | Refined equipment time to reflect typical use exclusive to patient.
|  | EF031 | table, power | NF |  | 31 | 25 | Refined equipment time to reflect typical use exclusive to patient.
|  | EQ110 | electrocautery-hyfrecator, up to 45 watts | NF |  | 31 | 0 | CMS clinical review; not described as typical in work vignette.
|  | EQ137 | instrument pack, basic ($500-$1499) | NF |  | 31 | 35 | Refined equipment time to reflect typical use exclusive to patient.
|  | EQ351 | Smoke Evacuator (tubing, covering, etc.) with stand | NF |  | 31 | 25 | Refined equipment time to reflect typical use exclusive to patient.
|  | L037D | RN/LPN/MTA | NF | Assist physician in performing procedure | 10 | 18 | Conforming to physician time.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11307 | Shave skin lesion 1.1-2.0 cm | ED004 | camera, digital (6 mexapixel) | NF |  | 37 | 21 | Refined equipment time to reflect typical use exclusive to patient.
|  | EF014 | light, surgical | NF |  | 37 | 21 | Refined equipment time to reflect typical use exclusive to patient.
|  | EF015 | mayo stand | NF |  | 37 | 21 | Refined equipment time to reflect typical use exclusive to patient.
|  | EF031 | table, power | NF |  | 37 | 21 | Refined equipment time to reflect typical use exclusive to patient.
|  | EQ110 | electrocautery-hyfrecator, up to 45 watts | NF |  | 37 | 0 | CMS clinical review; not described as typical in work vignette.
|  | EQ137 | instrument pack, basic ($500-$1499) | NF |  | 37 | 31 | Refined equipment time to reflect typical use exclusive to patient.
|  | EQ351 | Smoke Evacuator (tubing, covering, etc.) with stand | NF |  | 37 | 21 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11308 | Shave skin lesion >2.0 cm | ED004 | camera, digital (6 mexapixel) | NF |  | 42 | 24 | Refined equipment time to reflect typical use exclusive to patient.
|  | EF014 | light, surgical | NF |  | 42 | 24 | Refined equipment time to reflect typical use exclusive to patient.
|  | EF015 | mayo stand | NF |  | 42 | 24 | Refined equipment time to reflect typical use exclusive to patient.
|  | EF031 | table, power | NF |  | 42 | 24 | Refined equipment time to reflect typical use exclusive to patient.
|  | EQ110 | electrocautery-hyfrecator, up to 45 watts | NF |  | 42 | 0 | CMS clinical review; not described as typical in work vignette.
|  | EQ137 | instrument pack, basic ($500-$1499) | NF |  | 42 | 34 | Refined equipment time to reflect typical use exclusive to patient.
|  | EQ351 | Smoke Evacuator (tubing, covering, etc.) with stand | NF |  | 42 | 24 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11310 | Shave skin lesion 0.5 cm/< | ED004 | camera, digital (6 mexapixel) | NF |  | 34 | 20 | Refined equipment time to reflect typical use exclusive to patient.
|  | EF014 | light, surgical | NF |  | 34 | 20 | Refined equipment time to reflect typical use exclusive to patient.
|  | EF015 | mayo stand | NF |  | 34 | 20 | Refined equipment time to reflect typical use exclusive to patient.
|  | EF031 | table, power | NF |  | 34 | 20 | Refined equipment time to reflect typical use exclusive to patient.
|  | EQ110 | electrocautery-hyfrecator, up to 45 watts | NF |  | 34 | 0 | CMS clinical review; not described as typical in work vignette.
|  | EQ137 | instrument pack, basic ($500-$1499) | NF |  | 34 | 30 | Refined equipment time to reflect typical use exclusive to patient.
|  | EQ351 | Smoke Evacuator (tubing, covering, etc.) with stand | NF |  | 34 | 20 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11311 | Shave skin lesion 0.6-1.0 cm | ED004 | camera, digital (6 mexapixel) | NF |  | 34 | 24 | Refined equipment time to reflect typical use exclusive to patient.
|  | EF014 | light, surgical | NF |  | 34 | 24 | Refined equipment time to reflect typical use exclusive to patient.
|  | EF015 | mayo stand | NF |  | 34 | 24 | Refined equipment time to reflect typical use exclusive to patient.
|  | EF031 | table, power | NF |  | 34 | 24 | Refined equipment time to reflect typical use exclusive to patient.
|  | EQ110 | electrocautery-hyfrecator, up to 45 watts | NF |  | 34 | 0 | CMS clinical review; not described as typical in work vignette.
|  | EQ137 | instrument pack, basic ($500-$1499) | NF |  | 34 | 34 | Refined equipment time to reflect typical use exclusive to patient.
|  | EQ351 | Smoke Evacuator (tubing, covering, etc.) with stand | NF |  | 34 | 24 | Refined equipment time to reflect typical use exclusive to patient.
|  | L037D | RN/LPN/MTA | NF | Assist physician in performing procedure | 11 | 17 | Conforming to physician time.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11312 | Shave skin lesion 1.1-2.0 cm | ED004 | camera, digital (6 mexapixel) | NF |  | 43 | 17 | Refined equipment time to reflect typical use exclusive to patient.
|  | EF014 | light, surgical | NF |  | 43 | 17 | Refined equipment time to reflect typical use exclusive to patient.
|  | EF015 | mayo stand | NF |  | 43 | 17 | Refined equipment time to reflect typical use exclusive to patient.
|  | EF031 | table, power | NF |  | 43 | 17 | Refined equipment time to reflect typical use exclusive to patient.
|  | EQ110 | electrocautery-hyfrecator, up to 45 watts | NF |  | 43 | 0 | CMS clinical review; not described as typical in work vignette.
|  | EQ137 | instrument pack, basic ($500-$1499) | NF |  | 43 | 37 | Refined equipment time to reflect typical use exclusive to patient.
|  | EQ351 | Smoke Evacuator (tubing, covering, etc.) with stand | NF |  | 43 | 17 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11313 | Shave skin lesion >2.0 cm | ED004 | camera, digital (6 mexapixel) | NF |  | 48 | 30 | Refined equipment time to reflect typical use exclusive to patient.
|  | EF014 | light, surgical | NF |  | 48 | 30 | Refined equipment time to reflect typical use exclusive to patient.
|  | EF015 | mayo stand | NF |  | 48 | 30 | Refined equipment time to reflect typical use exclusive to patient.
|  | EF031 | table, power | NF |  | 48 | 30 | Refined equipment time to reflect typical use exclusive to patient.
|  | EQ110 | electrocautery-hyfrecator, up to 45 watts | NF |  | 48 | 0 | CMS clinical review; not described as typical in work vignette.
|  | EQ137 | instrument pack, basic ($500-$1499) | NF |  | 48 | 40 | Refined equipment time to reflect typical use exclusive to patient.
|  | EQ351 | Smoke Evacuator (tubing, covering, etc.) with stand | NF |  | 48 | 30 | Refined equipment time to reflect typical use exclusive to patient.
|  | L037D | RN/LPN/MTA | NF | Clean Surgical Instrument Package | 1 | 10 | Standardized time input.
|  | SB003 | cover, probe (cryosurgery) | NF |  | 1 | 0 | CMS clinical review.
|  | SB027 | gown, staff, impervious | NF |  | 2 | 1 | Duplicative.
|  | SB033 | mask, surgical | NF |  | 2 | 1 | Duplicative.
|  | SC029 | needle, 18-27g | NF |  | 1 | 0 | CMS clinical review.
11719 | Trim nail(s) any number | L037D | RN/LPN/MTA | NF | Greet patient, provide gowning, assure appropriate medical records are available | 3 | 1 | CMS clinical review.
|  | L037D | RN/LPN/MTA | NF | Provide pre-service education/obtain consent | 2 | 1 | CMS clinical review.
|  | L037D | RN/LPN/MTA | NF | Prepare room, equipment, supplies | 2 | 1 | CMS clinical review.
|  | L037D | RN/LPN/MTA | NF | Clean room/equipment by physician staff | 3 | 1 | CMS clinical review.
|  | SJ028 | hydrogen peroxide | NF |  | 10 | 0 | CMS clinical review.
|  | SJ053 | swab-pad, alcohol | NF |  | 10 | 0 | CMS clinical review.
13100 | Cmplx rpr trunk 1.1-2.5 cm | EF014 | light, surgical | NF |  | 32 | 27 | Refined equipment time to reflect typical use exclusive to patient.
|  | EF015 | mayo stand | NF |  | 32 | 39 | Refined equipment time to reflect typical use exclusive to patient.
|  | EF023 | table, exam | NF |  | 32 | 27 | Refined equipment time to reflect typical use exclusive to patient.
|  | EF031 | table, power | NF |  | 32 | 39 | Refined equipment time to reflect typical use exclusive to patient.
|  | EQ114 | electrosurgical generator, up to 120 watts | NF |  | 32 | 39 | Refined equipment time to reflect typical use exclusive to patient.
|  | EQ137 | instrument pack, basic ($500-$1499) | NF |  | 32 | 46 | Refined equipment time to reflect typical use exclusive to patient.
|  | EQ351 | Smoke Evacuator (tubing, covering, etc.) with stand | NF |  | 32 | 39 | Refined equipment time to reflect typical use exclusive to patient.
|  | SB016 | drape-cover, sterile, OR light handle | NF |  | 2 | 1 | CMS clinical review.
|  | SB027 | gown, staff, impervious | NF |  | 2 | 0 | Duplicative.
|  | SB034 | mask, surgical, with face shield | NF |  | 2 | 1 | Duplicative.
|  | SC029 | needle, 18-27g | NF |  | 1 | 0 | CMS clinical review.
|  |  | Electrocautery Supply Pack | NF |  | 1 | 0 | Non-standard direct practice expense input.
|  | SJ041 | povidone soln (Betadine) | NF |  | 5 | 0 | Duplicative.
13101 | Cmplx rpr trunk 2.6-7.5 cm | EF014 | light, surgical | NF |  | 45 | 27 | Refined equipment time to reflect typical use exclusive to patient.
|  | EF015 | mayo stand | NF |  | 45 | 47 | Refined equipment time to reflect typical use exclusive to patient.
|  | EF023 | table, exam | NF |  | 45 | 27 | Refined equipment time to reflect typical use exclusive to patient.
|  | EF031 | table, power | NF |  | 45 | 47 | Refined equipment time to reflect typical use exclusive to patient.
|  | EQ114 | electrosurgical generator, up to 120 watts | NF |  | 45 | 47 | Refined equipment time to reflect typical use exclusive to patient.
|  | EQ137 | instrument pack, basic ($500-$1499) | NF |  | 45 | 54 | Refined equipment time to reflect typical use exclusive to patient.
|  | EQ351 | Smoke Evacuator (tubing, covering, etc.) with stand | NF |  | 45 | 47 | CMS clinical review.
|  | SB016 | drape-cover, sterile, OR light handle | NF |  | 2 | 1 | CMS clinical review.
|  | SB027 | gown, staff, impervious | NF |  | 2 | 0 | Duplicative.
|  | SB027 | gown, staff, impervious | F |  | 2 | 0 | CMS clinical review.
|  | SB034 | mask, surgical, with face shield | NF |  | 2 | 1 | Duplicative.
|  | SB034 | mask, surgical, with face shield | F |  | 2 | 1 | CMS clinical review.
|  | SC029 | needle, 18-27g | NF |  | 1 | 0 | CMS clinical review.
|  |  | Electrocautery Supply Pack | NF |  | 1 | 0 | Non-standard direct practice expense input.
|  | SJ041 | povidone soln (Betadine) | NF |  | 10 | 0 | Duplicative.
13102 | Cmplx rpr trunk addl 5cm/< | EF015 | mayo stand | NF |  | 30 | 20 | Refined equipment time to reflect typical use exclusive to patient.
|  | EF031 | table, power | NF |  | 30 | 20 | Refined equipment time to reflect typical use exclusive to patient.
|  | EQ114 | electrosurgical generator, up to 120 watts | NF |  | 30 | 20 | Refined equipment time to reflect typical use exclusive to patient.
|  | EQ137 | instrument pack, basic ($500-$1499) | NF |  | 30 | 20 | Refined equipment time to reflect typical use exclusive to patient.
|  | EQ351 | Smoke Evacuator (tubing, covering, etc.) with stand | NF |  | 30 | 20 | Refined equipment time to reflect typical use exclusive to patient.
|  |  | Electrocautery Supply Pack | NF |  | 1 | 0 | Non-standard direct practice expense input.
|  | SJ041 | povidone soln (Betadine) | NF |  | 5 | 0 | Duplicative.
13120 | Cmplx rpr s/a/l 1.1-2.5 cm | EF014 | light, surgical | NF |  | 86 | 27 | Refined equipment time to reflect typical use exclusive to patient.
|  | EF015 | mayo stand | NF |  | 86 | 41 | Refined equipment time to reflect typical use exclusive to patient.
|  | EF023 | table, exam | NF |  | 86 | 27 | Refined equipment time to reflect typical use exclusive to patient.
|  | EF031 | table, power | NF |  | 86 | 41 | Refined equipment time to reflect typical use exclusive to patient.
|  | EQ114 | electrosurgical generator, up to 120 watts | NF |  | 86 | 41 | Refined equipment time to reflect typical use exclusive to patient.
|  | EQ137 | instrument pack, basic ($500-$1499) | NF |  | 86 | 48 | Refined equipment time to reflect typical use exclusive to patient.
|  | EQ351 | Smoke Evacuator (tubing, covering, etc.) with stand | NF |  | 86 | 41 | Refined equipment time to reflect typical use exclusive to patient.
|  | SB016 | drape-cover, sterile, OR light handle | NF |  | 2 | 1 | CMS clinical review.
|  | SB027 | gown, staff, impervious | NF |  | 2 | 0 | Duplicative.
|  | SB027 | gown, staff, impervious | F |  | 2 | 0 | CMS clinical review.
|  | SB034 | mask, surgical, with face shield | NF |  | 2 | 1 | Duplicative.
|  | SB034 | mask, surgical, with face shield | F |  | 2 | 1 | CMS clinical review.
|  | SC029 | needle, 18-27g | NF |  | 1 | 0 | CMS clinical review.
|  |  | Electrocautery Supply Pack | NF |  | 1 | 0 | Non-standard direct practice expense input.
|  | SJ041 | povidone soln (Betadine) | NF |  | 5 | 0 | Duplicative.
13121 | Cmplx rpr s/a/l 2.6-7.5 cm | EF014 | light, surgical | NF |  | 129 | 27 | Refined equipment time to reflect typical use exclusive to patient.
|  | EF015 | mayo stand | NF |  | 129 | 48 | Refined equipment time to reflect typical use exclusive to patient.
|  | EF023 | table, exam | NF |  | 129 | 27 | Refined equipment time to reflect typical use exclusive to patient.
|  | EF031 | table, power | NF |  | 129 | 48 | Refined equipment time to reflect typical use exclusive to patient.
|  | EQ114 | electrosurgical generator, up to 120 watts | NF |  | 129 | 48 | Refined equipment time to reflect typical use exclusive to patient.
|  | EQ137 | instrument pack, basic ($500-$1499) | NF |  | 129 | 55 | Refined equipment time to reflect typical use exclusive to patient.
|  | EQ351 | Smoke Evacuator (tubing, covering, etc.) with stand | NF |  | 129 | 48 | Refined equipment time to reflect typical use exclusive to patient.
|  | L037D | RN/LPN/MTA | NF | Clean Surgical Instrument Package | 15 | 10 | Standardized time input.
|  | SB016 | drape-cover, sterile, OR light handle | NF |  | 2 | 1 | CMS clinical review.
|  | SB027 | gown, staff, impervious | NF |  | 2 | 0 | Duplicative.
|  | SB034 | mask, surgical, with face shield | NF |  | 2 | 1 | Duplicative.
|  | SC029 | needle, 18-27g | NF |  | 1 | 0 | CMS clinical review.
|  |  | Electrocautery Supply Pack | NF |  | 1 | 0 | Non-standard direct practice expense input.
|  | SJ041 | povidone soln (Betadine) | NF |  | 10 | 0 | Duplicative.
13122 | Cmplx rpr s/a/l addl 5 cm/> | EF015 | mayo stand | NF |  | 30 | 20 | Refined equipment time to reflect typical use exclusive to patient.
|  | EF031 | table, power | NF |  | 30 | 20 | Refined equipment time to reflect typical use exclusive to patient.
|  | EQ114 | electrosurgical generator, up to 120 watts | NF |  | 30 | 20 | Refined equipment time to reflect typical use exclusive to patient.
|  | EQ137 | instrument pack, basic ($500-$1499) | NF |  | 30 | 20 | Refined equipment time to reflect typical use exclusive to patient.
|  | EQ351 | Smoke Evacuator (tubing, covering, etc.) with stand | NF |  | 30 | 20 | Refined equipment time to reflect typical use exclusive to patient.
|  |  | Electrocautery Supply Pack | NF |  | 1 | 0 | Non-standard direct practice expense input.
|  | SJ041 | povidone soln (Betadine) | NF |  | 5 | 0 | Duplicative.
13131 | Cmplx rpr f/c/c/m/n/ax/g/h/f | EF014 | light, surgical | NF |  | 45 | 27 | Refined equipment time to reflect typical use exclusive to patient.
|  | EF015 | mayo stand | NF |  | 45 | 48 | Refined equipment time to reflect typical use exclusive to patient.
|  | EF023 | table, exam | NF |  | 45 | 27 | Refined equipment time to reflect typical use exclusive to patient.
|  | EF031 | table, power | NF |  | 45 | 48 | Refined equipment time to reflect typical use exclusive to patient.
|  | EQ114 | electrosurgical generator, up to 120 watts | NF |  | 45 | 48 | Refined equipment time to reflect typical use exclusive to patient.
|  | EQ137 | instrument pack, basic ($500-$1499) | NF |  | 45 | 55 | Refined equipment time to reflect typical use exclusive to patient.
|  | EQ351 | Smoke Evacuator (tubing, covering, etc.) with stand | NF |  | 45 | 48 | Refined equipment time to reflect typical use exclusive to patient.
|  | SB016 | drape-cover, sterile, OR light handle | NF |  | 2 | 1 | CMS clinical review.
|  | SB027 | gown, staff, impervious | NF |  | 2 | 0 | Duplicative.
|  | SB034 | mask, surgical, with face shield | NF |  | 2 | 1 | Duplicative.
|  | SC029 | needle, 18-27g | NF |  | 1 | 0 | CMS clinical review.
|  |  | Electrocautery Supply Pack | NF |  | 1 | 0 | Non-standard direct practice expense input.
|  | SJ041 | povidone soln (Betadine) | NF |  | 5 | 0 | Duplicative.
13132 | Cmplx rpr f/c/c/m/n/ax/g/h/f | EF014 | light, surgical | NF |  | 50 | 27 | Refined equipment time to reflect typical use exclusive to patient.
|  | EF015 | mayo stand | NF |  | 50 | 51 | Refined equipment time to reflect typical use exclusive to patient.
|  | EF023 | table, exam | NF |  | 50 | 27 | Refined equipment time to reflect typical use exclusive to patient.
|  | EF031 | table, power | NF |  | 50 | 51 | Refined equipment time to reflect typical use exclusive to patient.
|  | EQ114 | electrosurgical generator, up to 120 watts | NF |  | 50 | 51 | Refined equipment time to reflect typical use exclusive to patient.
|  | EQ137 | instrument pack, basic ($500-$1499) | NF |  | 50 | 58 | Refined equipment time to reflect typical use exclusive to patient.
|  | EQ351 | Smoke Evacuator (tubing, covering, etc.) with stand | NF |  | 50 | 51 | Refined equipment time to reflect typical use exclusive to patient.
|  | SB016 | drape-cover, sterile, OR light handle | NF |  | 2 | 1 | CMS clinical review.
|  | SB027 | gown, staff, impervious | NF |  | 2 | 0 | Duplicative.
|  | SB034 | mask, surgical, with face shield | NF |  | 2 | 1 | Duplicative.
|  | SC029 | needle, 18-27g | NF |  | 1 | 0 | CMS clinical review.
|  |  | Electrocautery Supply Pack | NF |  | 1 | 0 | Non-standard direct practice expense input.
|  | SJ041 | povidone soln (Betadine) | NF |  | 10 | 0 | Duplicative.
13133 | Cmplx rpr f/c/c/m/n/ax/g/h/f | EF015 | mayo stand | NF |  | 35 | 23 | Refined equipment time to reflect typical use exclusive to patient.
|  | EF031 | table, power | NF |  | 35 | 23 | Refined equipment time to reflect typical use exclusive to patient.
|  | EQ114 | electrosurgical generator, up to 120 watts | NF |  | 35 | 23 | Refined equipment time to reflect typical use exclusive to patient.
|  | EQ137 | instrument pack, basic ($500-$1499) | NF |  | 35 | 23 | Refined equipment time to reflect typical use exclusive to patient.
|  | EQ351 | Smoke Evacuator (tubing, covering, etc.) with stand | NF |  | 35 | 23 | Refined equipment time to reflect typical use exclusive to patient.
|  |  | Electrocautery Supply Pack | NF |  | 1 | 0 | Non-standard direct practice expense input.
|  | SJ041 | povidone soln (Betadine) | NF |  | 5 | 0 | Duplicative.
13150 | Cmplx rpr e/n/e/l 1.0 cm/< | EF014 | light, surgical | NF |  | 30 | 27 | Refined equipment time to reflect typical use exclusive to patient.
|  | EF015 | mayo stand | NF |  | 30 | 44 | Refined equipment time to reflect typical use exclusive to patient.
|  | EF023 | table, exam | NF |  | 30 | 27 | Refined equipment time to reflect typical use exclusive to patient.
|  | EF031 | table, power | NF |  | 30 | 44 | Refined equipment time to reflect typical use exclusive to patient.
|  | EQ114 | electrosurgical generator, up to 120 watts | NF |  | 30 | 44 | Refined equipment time to reflect typical use exclusive to patient.
|  | EQ137 | instrument pack, basic ($500-$1499) | NF |  | 30 | 51 | Refined equipment time to reflect typical use exclusive to patient.
|  | EQ351 | Smoke Evacuator (tubing, covering, etc.) with stand | NF |  | 30 | 44 | Refined equipment time to reflect typical use exclusive to patient.
|  | L037D | RN/LPN/MTA | NF | Assist physician in performing procedure | 20 | 26 | Conforming to physician time.
|  | SB016 | drape-cover, sterile, OR light handle | NF |  | 2 | 1 | CMS clinical review.
|  | SB027 | gown, staff, impervious | NF |  | 2 | 0 | Duplicative.
|  | SB034 | mask, surgical, with face shield | NF |  | 2 | 1 | Duplicative.
|  | SC029 | needle, 18-27g | NF |  | 1 | 0 | CMS clinical review.
|  |  | Electrocautery Supply Pack | NF |  | 1 | 0 | Non-standard direct practice expense input.
|  | SJ041 | povidone soln (Betadine) | NF |  | 5 | 0 | Duplicative.
13151 | Cmplx rpr e/n/e/l 1.1-2.5 cm | EF014 | light, surgical | NF |  | 45 | 27 | Refined equipment time to reflect typical use exclusive to patient.
|  | EF015 | mayo stand | NF |  | 45 | 48 | Refined equipment time to reflect typical use exclusive to patient.
|  | EF023 | table, exam | NF |  | 45 | 27 | Refined equipment time to reflect typical use exclusive to patient.
|  | EF031 | table, power | NF |  | 45 | 48 | Refined equipment time to reflect typical use exclusive to patient.
|  | EQ114 | electrosurgical generator, up to 120 watts | NF |  | 45 | 48 | Refined equipment time to reflect typical use exclusive to patient.
|  | EQ137 | instrument pack, basic ($500-$1499) | NF |  | 45 | 55 | Refined equipment time to reflect typical use exclusive to patient.
|  | EQ351 | Smoke Evacuator (tubing, covering, etc.) with stand | NF |  | 45 | 48 | Refined equipment time to reflect typical use exclusive to patient.
|  | SB016 | drape-cover, sterile, OR light handle | NF |  | 2 | 1 | CMS clinical review.
|  | SB027 | gown, staff, impervious | NF |  | 2 | 0 | Duplicative.
|  | SB034 | mask, surgical, with face shield | NF |  | 2 | 1 | Duplicative.
|  | SC029 | needle, 18-27g | NF |  | 1 | 0 | CMS clinical review.
|  |  | Electrocautery Supply Pack | NF |  | 1 | 0 | Non-standard direct practice expense input.
|  | SJ041 | povidone soln (Betadine) | NF |  | 5 | 0 | Duplicative.
13152 | Cmplx rpr e/n/e/l 2.6-7.5 cm | EF014 | light, surgical | NF |  | 50 | 27 | Refined equipment time to reflect typical use exclusive to patient.
|  | EF015 | mayo stand | NF |  | 50 | 51 | Refined equipment time to reflect typical use exclusive to patient.
|  | EF023 | table, exam | NF |  | 50 | 27 | Refined equipment time to reflect typical use exclusive to patient.
|  | EF031 | table, power | NF |  | 50 | 51 | Refined equipment time to reflect typical use exclusive to patient.
|  | EQ114 | electrosurgical generator, up to 120 watts | NF |  | 50 | 51 | Refined equipment time to reflect typical use exclusive to patient.
|  | EQ137 | instrument pack, basic ($500-$1499) | NF |  | 50 | 58 | Refined equipment time to reflect typical use exclusive to patient.
|  | EQ351 | Smoke Evacuator (tubing, covering, etc.) with stand | NF |  | 50 | 51 | Refined equipment time to reflect typical use exclusive to patient.
|  | L037D | RN/LPN/MTA | NF |  | 15 | 10 | Standardized time input.
|  | SB016 | drape-cover, sterile, OR light handle | NF |  | 2 | 1 | CMS clinical review.
|  | SB027 | gown, staff, impervious | NF |  | 2 | 0 | Duplicative.
|  | SB034 | mask, surgical, with face shield | NF |  | 2 | 1 | Duplicative.
|  |  | Electrocautery Supply Pack | NF |  | 1 | 0 | Non-standard direct practice expense input.
|  | SJ041 | povidone soln (Betadine) | NF |  | 10 | 0 | Duplicative.
13153 | Cmplx rpr e/n/e/l addl 5cm/< | EF015 | mayo stand | NF |  | 45 | 30 | Refined equipment time to reflect typical use exclusive to patient.
|  | EF031 | table, power | NF |  | 45 | 30 | Refined equipment time to reflect typical use exclusive to patient.
|  | EQ114 | electrosurgical generator, up to 120 watts | NF |  | 45 | 30 | Refined equipment time to reflect typical use exclusive to patient.
|  | EQ137 | instrument pack, basic ($500-$1499) | NF |  | 45 | 30 | Refined equipment time to reflect typical use exclusive to patient.
|  | EQ351 | Smoke Evacuator (tubing, covering, etc.) with stand | NF |  | 45 | 30 | Refined equipment time to reflect typical use exclusive to patient.
|  | SC029 | needle, 18-27g | NF |  | 2 | 0 | CMS clinical review.
|  |  | Electrocautery Supply Pack | NF |  | 1 | 0 | Non-standard direct practice expense input.
|  | SJ041 | povidone soln (Betadine) | NF |  | 5 | 0 | Duplicative.
20600 | Drain/inject joint/bursa | EF023 | table, exam | NF |  | 19 | 16 | Refined equipment time to reflect typical use exclusive to patient.
|  | EQ168 | light, exam | NF |  | 19 | 16 | Refined equipment time to reflect typical use exclusive to patient.
|  | L037D | RN/LPN/MTA | F | Discharge day management | 6 | 0 | CMS clinical review.
|  | L037D | RN/LPN/MTA | F | Conduct phone calls/call in prescriptions | 0 | 3 | CMS clinical review.
|  | SC029 | needle, 18-27g | NF |  | 4 | 2 | CMS clinical review.
|  | SC055 | syringe 3ml | NF |  | 2 | 1 | CMS clinical review.
20605 | Drain/inject joint/bursa | EF023 | table, exam | NF |  | 19 | 16 | Refined equipment time to reflect typical use exclusive to patient.
|  | EQ168 | light, exam | NF |  | 19 | 16 | Refined equipment time to reflect typical use exclusive to patient.
|  | L037D | RN/LPN/MTA | F | Discharge day management | 6 | 0 | CMS clinical review.
|  | L037D | RN/LPN/MTA | F | Conduct phone calls/call in prescriptions | 0 | 3 | CMS clinical review.
|  | SC029 | needle, 18-27g | NF |  | 4 | 2 | CMS clinical review.
|  | SC055 | syringe 3ml | NF |  | 2 | 1 | CMS clinical review.
20610 | Drain/inject joint/bursa | EF023 | table, exam | NF |  | 19 | 16 | Refined equipment time to reflect typical use exclusive to patient.
|  | EQ168 | light, exam | NF |  | 19 | 16 | Refined equipment time to reflect typical use exclusive to patient.
|  | L037D | RN/LPN/MTA | F | Discharge day management | 6 | 0 | CMS clinical review.
|  | L037D | RN/LPN/MTA | F | Conduct phone calls/call in prescriptions | 0 | 3 | CMS clinical review.
|  | SC029 | needle, 18-27g | NF |  | 4 | 2 | CMS clinical review.
|  | SC057 | syringe 5-6ml | NF |  | 2 | 1 | CMS clinical review.
23472 | Reconstruct shoulder joint | SA052 | pack, post-op incision care (staple) | F |  | 0 | 1 | CMS clinical review.
|  | SA053 | pack, post-op incision care (suture & staple) | F |  | 1 | 0 | CMS clinical review.
23473 | Revis reconst shoulder joint | SA052 | pack, post-op incision care (staple) | F |  | 0 | 1 | CMS clinical review.
|  | SA053 | pack, post-op incision care (suture & staple) | F |  | 1 | 0 | CMS clinical review.
23474 | Revis reconst shoulder joint | SA052 | pack, post-op incision care (staple) | F |  | 0 | 1 | CMS clinical review.
|  | SA053 | pack, post-op incision care (suture & staple) | F |  | 1 | 0 | CMS clinical review.
24363 | Replace elbow joint | SA052 | pack, post-op incision care (staple) | F |  | 0 | 1 | CMS clinical review.
|  | SA053 | pack, post-op incision care (suture & staple) | F |  | 1 | 0 | CMS clinical review.
24370 | Revise reconst elbow joint | SA052 | pack, post-op incision care (staple) | F |  | 0 | 1 | CMS clinical review.
|  | SA053 | pack, post-op incision care (suture & staple) | F |  | 1 | 0 | CMS clinical review.
24371 | Revise reconst elbow joint | SA052 | pack, post-op incision care (staple) | F |  | 0 | 1 | CMS clinical review.
|  | SA053 | pack, post-op incision care (suture & staple) | F |  | 1 | 0 | CMS clinical review.
31231 | Nasal endoscopy dx | ED032 | printer, laser, paper | NF |  | 43 | 35 | Refined equipment time to reflect typical use exclusive to patient.
|  | EF008 | chair with headrest, exam, reclining | NF |  | 43 | 35 | Refined equipment time to reflect typical use exclusive to patient.
|  | EQ138 | instrument pack, medium ($1500 and up) | NF |  | 0 | 47 | Refined equipment time to reflect typical use exclusive to patient.
|  | EQ167 | light source, xenon | NF |  | 43 | 35 | Refined equipment time to reflect typical use exclusive to patient.
|  | EQ170 | light, fiberoptic headlight w-source | NF |  | 43 | 35 | Refined equipment time to reflect typical use exclusive to patient.
|  | EQ234 | suction and pressure cabinet, ENT (SMR) | NF |  | 43 | 35 | Refined equipment time to reflect typical use exclusive to patient.
|  | ES013 | endoscope, rigid, sinoscopy | NF |  | 63 | 42 | Refined equipment time to reflect typical use exclusive to patient.
|  | ES013 | endoscope, rigid, sinoscopy | NF |  | 63 | 0 | CMS clinical review.
|  | ES031 | video system, endoscopy (processor, digital capture, monitor, printer, cart) | NF |  | 43 | 35 | Refined equipment time to reflect typical use exclusive to patient.
|  | ES036 | Nasal Endoscopy Instrument Package | NF |  | 63 | 0 | Non-standard direct practice expense input.
|  | L037D | RN/LPN/MTA | NF | Greet patient, provide gowning, assure appropriate medical records are available | 2 | 0 | CMS clinical review.
|  | L037D | RN/LPN/MTA | NF | Obtain vital signs | 1 | 0 | CMS clinical review.
|  | L037D | RN/LPN/MTA | NF | Clean Surgical Instrument Package | 10 | 15 | Standardized time input.
|  | L037D | RN/LPN/MTA | NF | Review/read X-ray, lab, and pathology reports | 5 | 0 | CMS clinical review.
|  | SB027 | gown, staff, impervious | NF |  | 2 | 1 | Duplicative.
|  | SB034 | mask, surgical, with face shield | NF |  | 2 | 1 | Duplicative.
31647 | Bronchial valve init insert | L047C | RN/Respiratory Therapist | F | Complete pre-service diagnostic & referral forms | 3 | 5 | CMS clinical review.
|  | L047C | RN/Respiratory Therapist | F | Coordinate pre-surgery services | 5 | 3 | CMS clinical review.
32554 | Aspirate pleura w/o imaging | EF023 | table, exam | NF |  | 56 | 52 | Refined equipment time to reflect typical use exclusive to patient.
|  | EQ168 | light, exam | NF |  | 0 | 52 | Refined equipment time to reflect typical use exclusive to patient.
|  | L037D | RN/LPN/MTA | NF | Complete pre-service diagnostic & referral forms | 5 | 0 | CMS clinical review.
|  | L037D | RN/LPN/MTA | NF | Coordinate pre-surgery services | 3 | 1 | CMS clinical review.
|  | L037D | RN/LPN/MTA | NF | Monitor pt. following service/check tubes, monitors, drains | 5 | 10 | CMS clinical review.
|  | SA048 | pack, minimum multi-specialty visit | NF |  | 0 | 1 | CMS clinical review.
|  | SA067 | tray, shave prep | NF |  | 0 | 1 | CMS clinical review.
|  |  | kit, thoracentesis | NF |  | 1 | 0 | CMS clincial review.
|  | SA070 | tray, thoracentesis | NF |  | 0 | 1 | CMS clincial review.
|  | SA077 | kit, pleural catheter insertion | NF |  | 0 | 1 | CMS clinical review.
|  | SB001 | cap, surgical | NF |  | 0 | 2 | CMS clinical review.
|  | SB006 | drape, non-sterile, sheet 40in x 60in | NF |  | 1 | 0 | CMS clinical review.
|  | SB024 | gloves, sterile | NF |  | 1 | 2 | CMS clinical review.
|  | SB034 | mask, surgical, with face shield | NF |  | 0 | 2 | CMS clinical review.
|  | SB039 | shoe covers, surgical | NF |  | 0 | 2 | CMS clinical review.
|  | SB044 | underpad 2ft x 3ft (Chux) | NF |  | 0 | 1 | CMS clinical review.
|  | SG056 | gauze, sterile 4in x 4in (10 pack uou) | NF |  | 1 | 0 | CMS clinical review.
32555 | Aspirate pleura w/imaging | ED024 | film processor, dry, laser | NF |  | 58 | 7 | Refined equipment time to reflect typical use exclusive to patient.
|  | EF019 | stretcher chair | NF |  | 15 | 10 | CMS clinical review.
|  | EL015 | room, ultrasound, general | NF |  | 33 | 30 | Refined equipment time to reflect typical use exclusive to patient.
|  | ER029 | film alternator (motorized film viewbox) | NF |  | 58 | 7 | Refined equipment time to reflect typical use exclusive to patient.
|  | L041B | Radiologic Technologist | NF | Complete pre-service diagnostic & referral forms | 5 | 0 | CMS clinical review.
|  | L041B | Radiologic Technologist | NF | Coordinate pre-surgery services | 3 | 1 | CMS clinical review.
|  | L041B | Radiologic Technologist | NF | Monitor pt. following service/check tubes, monitors, drains | 15 | 10 | CMS clinical review.
|  | L041B | Radiologic Technologist | NF | Process images, complete data sheet, present images and data to the interpreting physician | 5 | 2 | CMS clinical review.
|  |  | kit, thoracentesis | NF |  | 1 | 0 | CMS clinical review.
|  | SA070 | tray, thoracentesis | NF |  | 0 | 1 | CMS clinical review.
|  | SA077 | kit, pleural catheter insertion | NF |  | 0 | 1 | CMS clinical review.
|  | SB001 | cap, surgical | NF |  | 0 | 3 | CMS clinical review.
|  | SB027 | gown, staff, impervious | NF |  | 0 | 1 | CMS clinical review.
|  | SB039 | shoe covers, surgical | NF |  | 0 | 3 | CMS clinical review.
|  | SB044 | underpad 2ft x 3ft (Chux) | NF |  | 0 | 1 | CMS clinical review.
|  | SG078 | tape, surgical occlusive 1in (Blenderm) | NF |  | 0 | 15 | CMS clinical review.
|  | SM012 | disinfectant spray (Transeptic) | NF |  | 10 | 0 | CMS clinical review.
|  | SM021 | sanitizing cloth-wipe (patient) | NF |  | 2 | 0 | CMS clinical review.
32556 | Insert cath pleura w/o image | EQ168 | light, exam | NF |  | 0 | 76 | Refined equipment time to reflect typical use exclusive to patient.
|  | L037D | RN/LPN/MTA | NF | Complete pre-service diagnostic & referral forms | 5 | 0 | CMS clinical review.
|  | L037D | RN/LPN/MTA | NF | Coordinate pre-surgery services | 3 | 1 | CMS clinical review.
|  | SA044 | pack, moderate sedation | NF |  | 0 | 1 | CMS clinical review.
|  | SA048 | pack, minimum multi-specialty visit | NF |  | 0 | 1 | CMS clinical review.
|  | SA067 | tray, shave prep | NF |  | 0 | 1 | CMS clinical review.
|  | SB001 | cap, surgical | NF |  | 0 | 2 | CMS clinical review.
|  | SB006 | drape, non-sterile, sheet 40in x 60in | NF |  | 1 | 0 | CMS clinical review.
|  | SB034 | mask, surgical, with face shield | NF |  | 0 | 2 | CMS clinical review.
|  | SB039 | shoe covers, surgical | NF |  | 0 | 2 | CMS clinical review.
|  | SB044 | underpad 2ft x 3ft (Chux) | NF |  | 0 | 1 | CMS clinical review.
|  | SC010 | closed flush system, angiography | NF |  | 0 | 1 | CMS clinical review.
|  | SG056 | gauze, sterile 4in x 4in (10 pack uou) | NF |  | 1 | 0 | CMS clinical review.
|  | SH065 | sodium chloride 0.9% flush syringe | NF |  | 0 | 1 | CMS clinical review.
|  | SH069 | sodium chloride 0.9% irrigation (500-1000ml uou) | NF |  | 0 | 1 | CMS clinical review.
|  | SL157 | cup, sterile, 8 oz | NF |  | 0 | 1 | CMS clinical review.
32557 | Insert cath pleura w/image | ED024 | film processor, dry, laser | NF |  | 58 | 7 | CMS clinical review.
|  | EF019 | stretcher chair | NF |  | 15 | 10 | CMS clinical review.
|  | EL007 | room, CT | NF |  | 43 | 40 | Refined equipment time to reflect typical use exclusive to patient.
|  | EQ168 | light, exam | NF |  | 60 | 40 | Refined equipment time to reflect typical use exclusive to patient.
|  | ER029 | film alternator (motorized film viewbox) | NF |  | 58 | 7 | CMS clinical review.
|  | L046A | CT Technologist | NF | Complete pre-service diagnostic & referral forms | 5 | 0 | CMS clinical review.
|  | L046A | CT Technologist | NF | Coordinate pre-surgery services | 3 | 1 | CMS clinical review.
|  | L046A | CT Technologist | NF | Check dressings & wound/home care instructions/coordinate office visits/prescriptions | 3 | 5 | CMS clinical review.
|  | L046A | CT Technologist | NF | Assist physician in performing procedure | 28 | 30 | Conforming to physician time.
|  | SA071 | kit, AccuStick II Introducer System with RO Marker | NF |  | 1 | 0 | CMS clinical review.
|  | SA077 | kit, pleural catheter insertion | NF |  | 0 | 1 | CMS clinical review.
|  | SB001 | cap, surgical | NF |  | 2 | 3 | CMS clinical review.
|  | SB011 | drape, sterile, fenestrated 16in x 29in | NF |  | 1 | 0 | CMS clinical review.
|  | SB014 | drape, sterile, three-quarter sheet | NF |  | 1 | 0 | CMS clinical review.
|  | SB019 | drape-towel, sterile 18in x 26in | NF |  | 4 | 0 | CMS clinical review.
|  | SB024 | gloves, sterile | NF |  | 2 | 1 | CMS clinical review.
|  | SB027 | gown, staff, impervious | NF |  | 0 | 1 | CMS clinical review.
|  | SB039 | shoe covers, surgical | NF |  | 2 | 3 | CMS clinical review.
|  | SC049 | stop cock, 3-way | NF |  | 1 | 0 | CMS clinical review.
|  | SC056 | syringe 50-60ml | NF |  | 2 | 0 | CMS clinical review.
|  | SC058 | syringe w-needle, OSHA compliant (SafetyGlide) | NF |  | 1 | 0 | CMS clinical review.
|  | SD043 | dilator, vessel, angiographic | NF |  | 1 | 0 | CMS clinical review.
|  | SD088 | guidewire | NF |  | 1 | 0 | CMS clinical review.
|  | SD146 | catheter percutaneous fastener (Percu-Stay) | NF |  | 1 | 0 | CMS clinical review.
|  | SD161 | drainage catheter, all purpose | NF |  | 1 | 0 | CMS clinical review.
|  | SD163 | drainage pouch, nephrostomy-biliary | NF |  | 1 | 0 | CMS clinical review.
|  | SF007 | blade, surgical (Bard-Parker) | NF |  | 1 | 0 | CMS clinical review.
|  | SG009 | applicator, sponge-tipped | NF |  | 4 | 0 | CMS clinical review.
|  | SG078 | tape, surgical occlusive 1in (Blenderm) | NF |  | 0 | 25 | CMS clinical review.
|  | SH047 | lidocaine 1%-2% inj (Xylocaine) | NF |  | 10 | 0 | CMS clinical review.
|  | SJ041 | povidone soln (Betadine) | NF |  | 60 | 0 | CMS clinical review.
|  | SL036 | cup, biopsy-specimen sterile 4oz | NF |  | 1 | 0 | CMS clinical review.
|  | SL156 | cup, sterile, 12-16 oz | NF |  | 1 | 0 | CMS clinical review.
33361 | Replace aortic valve perq | L037D | RN/LPN/MTA | F | Coordinate pre-surgery services | 40 | 10 | Standardized time input.
|  | L037D | RN/LPN/MTA | F | Schedule space and equipment in facility | 8 | 5 | Standardized time input.
|  | L037D | RN/LPN/MTA | F | Provide pre-service education/obtain consent | 20 | 7 | Standardized time input.
|  | L037D | RN/LPN/MTA | F | Follow-up phone calls & prescriptions | 7 | 3 | Standardized time input.
33362 | Replace aortic valve open | L037D | RN/LPN/MTA | F | Coordinate pre-surgery services | 40 | 10 | Standardized time input.
|  | L037D | RN/LPN/MTA | F | Schedule space and equipment in facility | 8 | 5 | Standardized time input.
|  | L037D | RN/LPN/MTA | F | Provide pre-service education/obtain consent | 20 | 7 | Standardized time input.
|  | L037D | RN/LPN/MTA | F | Follow-up phone calls & prescriptions | 7 | 3 | Standardized time input.
33363 | Replace aortic valve open | L037D | RN/LPN/MTA | F | Coordinate pre-surgery services | 40 | 10 | Standardized time input.
|  | L037D | RN/LPN/MTA | F | Schedule space and equipment in facility | 8 | 5 | Standardized time input.
|  | L037D | RN/LPN/MTA | F | Provide pre-service education/obtain consent | 20 | 7 | Standardized time input.
|  | L037D | RN/LPN/MTA | F | Follow-up phone calls & prescriptions | 7 | 3 | Standardized time input.
33364 | Replace aortic valve open | L037D | RN/LPN/MTA | F | Coordinate pre-surgery services | 40 | 10 | Standardized time input.
|  | L037D | RN/LPN/MTA | F | Schedule space and equipment in facility | 8 | 5 | Standardized time input.
|  | L037D | RN/LPN/MTA | F | Provide pre-service education/obtain consent | 20 | 7 | Standardized time input.
|  | L037D | RN/LPN/MTA | F | Follow-up phone calls & prescriptions | 7 | 3 | Standardized time input.
33365 | Replace aortic valve open | L037D | RN/LPN/MTA | F | Coordinate pre-surgery services | 40 | 10 | Standardized time input.
|  | L037D | RN/LPN/MTA | F | Schedule space and equipment in facility | 8 | 5 | Standardized time input.
|  | L037D | RN/LPN/MTA | F | Provide pre-service education/obtain consent | 20 | 7 | Standardized time input.
|  | L037D | RN/LPN/MTA | F | Follow-up phone calls & prescriptions | 7 | 3 | Standardized time input.
33366 | #N/A | L037D | RN/LPN/MTA | F | Coordinate pre-surgery services | 40 | 10 | Standardized time input.
|  | L037D | RN/LPN/MTA | F | Schedule space and equipment in facility | 8 | 5 | Standardized time input.
|  | L037D | RN/LPN/MTA | F | Provide pre-service education/obtain consent | 20 | 7 | Standardized time input.
|  | L037D | RN/LPN/MTA | F | Follow-up phone calls & prescriptions | 7 | 3 | Standardized time input.
33405 | Replacement of aortic valve | L051A | RN | F | Other Clinical Activity—specify: for reference code 33406 and codes 33405 and 33430: Additional coordination between multiple specialties for complex procedures (tests, meds, scheduling, etc) prior to patient arrival at site of service. | 15 | 0 | CMS clinical review.
|  | L051A | RN | F | Other Clinical Activity—specify: for reference code 33406 and codes 33405 and 33430: Additional coordination between multiple specialties for complex procedures (tests, meds, scheduling, etc) prior to patient arrival at site of service. | 15 | 0 | CMS clinical review.
35475 | Repair arterial blockage | EL011 | room, angiography | NF |  | 51 | 52 | Refined equipment time to reflect typical use exclusive to patient.
|  | EQ011 | ECG, 3-channel (with SpO2, NIBP, temp, resp) | NF |  | 212 | 285 | Moderate Sedation equipment—Time includes administering anesthesia, procedure time, and monitoring patient.
|  | EQ032 | IV infusion pump | NF |  | 212 | 285 | Moderate Sedation equipment—Time includes administering anesthesia, procedure time, and monitoring patient.
|  | EQ168 | light, exam | NF |  | 120 | 52 | Refined equipment time to reflect typical use exclusive to patient.
|  | L037D | RN/LPN/MTA | F | Complete pre-service diagnostic & referral forms | 5 | 3 | CMS clinical review.
|  | L037D | RN/LPN/MTA | NF | Obtain vital signs | 5 | 3 | CMS clinical review.
|  | L041B | Radiologic Technologist | NF | Prepare room, equipment, supplies | 4 | 2 | Standardized time input.
|  | SB019 | drape-towel, sterile 18in x 26in | NF |  | 4 | 2 | CMS clinical review.
35476 | Repair venous blockage | Ef027 | table, instrument, mobile | NF |  | 302 | 277 | Moderate Sedation equipment—Time includes administering anesthesia, procedure time, and monitoring patient.
|  | EL011 | room, angiography | NF |  | 43 | 44 | Refined equipment time to reflect typical use exclusive to patient.
|  | EQ011 | ECG, 3-channel (with SpO2, NIBP, temp, resp) | NF |  | 137 | 277 | Moderate Sedation equipment—Time includes administering anesthesia, procedure time, and monitoring patient.
|  | EQ032 | IV infusion pump | NF |  | 137 | 277 | Moderate Sedation equipment—Time includes administering anesthesia, procedure time, and monitoring patient.
|  | EQ168 | light, exam | NF |  | 120 | 44 | Refined equipment time to reflect typical use exclusive to patient.
|  | L037D | RN/LPN/MTA | F | Schedule space and equipment in facility | 3 | 5 | CMS clinical review.
|  | L037D | RN/LPN/MTA | NF | Obtain vital signs | 5 | 3 | CMS clinical review.
|  | L041B | Radiologic Technologist | NF | Prepare room, equipment, supplies | 4 | 2 | Standardized time input.
|  | SB019 | drape-towel, sterile 18in x 26in | NF |  | 4 | 2 | CMS clinical review.
36221 | Place cath thoracic aorta | EF018 | stretcher | NF |  | 272 | 0 | CMS Code correction.
|  | EF027 | table, instrument, mobile | NF |  | 0 | 272 | CMS Code correction.
|  | EL011 | room, angiography | NF |  | 49 | 45 | Refined equipment time to reflect typical use exclusive to patient.
|  | EQ088 | contrast media warmer | NF |  | 49 | 45 | Refined equipment time to reflect typical use exclusive to patient.
|  | ER029 | film alternator (motorized film viewbox) | NF |  | 49 | 45 | Refined equipment time to reflect typical use exclusive to patient.
|  | L037D | RN/LPN/MTA | NF | Greet patient, provide gowning, assure appropriate medical records are available | 5 | 3 | Standardized time input.
|  | L037D | RN/LPN/MTA | NF | Obtain vital signs | 5 | 3 | CMS clinical review.
|  | L041A | Angio Technician | NF | Image Post Processing | 5 | 0 | CMS clinical review.
|  | L041B | Radiologic Technologist | NF | Prepare room, equipment, supplies | 2 | 7 | CMS clinical review.
|  | L041B | Radiologic Technologist | NF | Prepare and position patient/monitor patient/set up IV | 2 | 7 | CMS clinical review.
|  | SD249 | Sterile Radio-opaque ruler (le Maitre, documentation available) | NF |  | 1 | 0 | CMS clinical review.
36222 | Place cath carotid/inom art | EF018 | stretcher | NF |  | 282 | 0 | CMS Code correction.
|  | EF027 | table, instrument, mobile | NF |  | 0 | 282 | CMS Code correction.
|  | EL011 | room, angiography | NF |  | 59 | 55 | Refined equipment time to reflect typical use exclusive to patient.
|  | EQ088 | contrast media warmer | NF |  | 59 | 55 | Refined equipment time to reflect typical use exclusive to patient.
|  | ER029 | film alternator (motorized film viewbox) | NF |  | 59 | 55 | Refined equipment time to reflect typical use exclusive to patient.
|  | L037D | RN/LPN/MTA | NF | Greet patient, provide gowning, assure appropriate medical records are available | 5 | 3 | Standardized time input.
|  | L037D | RN/LPN/MTA | NF | Obtain vital signs | 5 | 3 | CMS clinical review.
|  | SD147 | catheter, (Glide) | NF |  | 1 | 0 | CMS clinical review.
|  | SD249 | Sterile Radio-opaque ruler (le Maitre, documentation available) | NF |  | 1 | 0 | CMS clinical review.
36223 | Place cath carotid/inom art | EF018 | stretcher | NF |  | 287 | 0 | CMS Code correction.
|  | EF027 | table, instrument, mobile | NF |  | 0 | 287 | CMS Code correction.
|  | EL011 | room, angiography | NF |  | 64 | 60 | Refined equipment time to reflect typical use exclusive to patient.
|  | EQ088 | contrast media warmer | NF |  | 64 | 60 | Refined equipment time to reflect typical use exclusive to patient.
|  | ER029 | film alternator (motorized film viewbox) | NF |  | 64 | 60 | Refined equipment time to reflect typical use exclusive to patient.
|  | L037D | RN/LPN/MTA | NF | Greet patient, provide gowning, assure appropriate medical records are available | 5 | 3 | Standardized time input.
|  | L037D | RN/LPN/MTA | NF | Obtain vital signs | 5 | 3 | CMS clinical review.
|  | SD249 | Sterile Radio-opaque ruler (le Maitre, documentation available) | NF |  | 1 | 0 | CMS clinical review.
36224 | Place cath carotd art | EF018 | stretcher | NF |  | 292 | 0 | CMS Code correction.
|  | EF027 | table, instrument, mobile | NF |  | 0 | 292 | CMS Code correction.
|  | EL011 | room, angiography | NF |  | 69 | 65 | Refined equipment time to reflect typical use exclusive to patient.
|  | EQ088 | contrast media warmer | NF |  | 69 | 65 | Refined equipment time to reflect typical use exclusive to patient.
|  | ER029 | film alternator (motorized film viewbox) | NF |  | 69 | 65 | Refined equipment time to reflect typical use exclusive to patient.
|  | L037D | RN/LPN/MTA | NF | Greet patient, provide gowning, assure appropriate medical records are available | 5 | 3 | Standardized time input.
|  | L037D | RN/LPN/MTA | NF | Obtain vital signs | 5 | 3 | CMS clinical review.
36225 | Place cath subclavian art | EF018 | stretcher | NF |  | 287 | 0 | CMS Code correction.
|  | EF027 | table, instrument, mobile | NF |  | 0 | 287 | CMS Code correction.
|  | EL011 | room, angiography | NF |  | 64 | 60 | Refined equipment time to reflect typical use exclusive to patient.
|  | EQ088 | contrast media warmer | NF |  | 64 | 60 | Refined equipment time to reflect typical use exclusive to patient.
|  | ER029 | film alternator (motorized film viewbox) | NF |  | 64 | 60 | Refined equipment time to reflect typical use exclusive to patient.
|  | L037D | RN/LPN/MTA | NF | Greet patient, provide gowning, assure appropriate medical records are available | 5 | 3 | Standardized time input.
|  | L037D | RN/LPN/MTA | NF | Obtain vital signs | 5 | 3 | CMS clinical review.
36226 | Place cath vertebral art | EF018 | stretcher | NF |  | 292 | 0 | CMS Code correction.
|  | EF027 | table, instrument, mobile | NF |  | 0 | 292 | CMS Code correction.
|  | EL011 | room, angiography | NF |  | 69 | 65 | Refined equipment time to reflect typical use exclusive to patient.
|  | EQ088 | contrast media warmer | NF |  | 69 | 65 | Refined equipment time to reflect typical use exclusive to patient.
|  | ER029 | film alternator (motorized film viewbox) | NF |  | 69 | 65 | Refined equipment time to reflect typical use exclusive to patient.
|  | L037D | RN/LPN/MTA | NF | Greet patient, provide gowning, assure appropriate medical records are available | 5 | 3 | Standardized time input.
|  | L037D | RN/LPN/MTA | NF | Obtain vital signs | 5 | 3 | CMS clinical review.
36228 | Place cath intracranial art | L041B | Radiologic Technologist | NF | Prepare room, equipment, supplies | 1 | 0 | CMS clinical review.
|  | L041B | Radiologic Technologist | NF | Assisting with flouroscopy/image acquisition (75%) | 23 | 22 | CMS clinical review.
|  | SC057 | syringe 5-6ml | NF |  | 4 | 0 | CMS clinical review.
37197 | Remove intrvas foreign body | EF027 | table, instrument, mobile | NF |  | 305 | 302 | Moderate Sedation equipment—Time includes administering anesthesia, procedure time, and monitoring patient.
|  | EL011 | room, angiography | NF |  | 77 | 72 | Refined equipment time to reflect typical use exclusive to patient.
|  | EQ011 | ECG, 3-channel (with SpO2, NIBP, temp, resp) | NF |  | 305 | 302 | Moderate Sedation equipment—Time includes administering anesthesia, procedure time, and monitoring patient.
|  | EQ032 | IV infusion pump | NF |  | 305 | 302 | Moderate Sedation equipment—Time includes administering anesthesia, procedure time, and monitoring patient.
|  | EQ088 | contrast media warmer | NF |  | 77 | 0 | CMS clinical review.
|  | EQ250 | ultrasound unit, portable | NF |  | 77 | 0 | CMS clinical review.
|  | ER029 | film alternator (motorized film viewbox) | NF |  | 77 | 72 | Refined equipment time to reflect typical use exclusive to patient.
|  | L037D | RN/LPN/MTA | NF | Greet patient, provide gowning, assure appropriate medical records are available | 5 | 3 | Standardized time input.
|  | L037D | RN/LPN/MTA | NF | Obtain vital signs | 5 | 3 | CMS clinical review.
|  | L041B | Radiologic Technologist | NF | Prepare room, equipment, supplies (including imaging equipment) | 7 | 5 | CMS clinical review.
|  | L041B | Radiologic Technologist | NF | Prepare and position patient/monitor patient/set up IV | 5 | 2 | Standardized time input.
|  | SB005 | cover-condom, transducer or ultrasound probe | NF |  | 1 | 0 | CMS clinical review.
|  | SB048 | sheath-cover, sterile, 96in x 6in (transducer) | NF |  | 1 | 0 | CMS clinical review.
|  | SD147 | catheter, (Glide) | NF |  | 1 | 0 | CMS clinical review.
|  | SD252 | guidewire, Amplatz wire 260 cm | NF |  | 1 | 0 | CMS clinical review.
|  | SH065 | sodium chloride 0.9% flush syringe | NF |  | 2 | 0 | CMS clinical review.
47600 | Removal of gallbladder | SA053 | pack, post-op incision care (suture & staple) | F |  | 1 | 0 | CMS clinical review.
|  | SA054 | pack, post-op incision care (suture) | F |  | 0 | 1 | CMS clinical review.
47605 | Removal of gallbladder | SA053 | pack, post-op incision care (suture & staple) | F |  | 1 | 0 | CMS clinical review.
|  | SA054 | pack, post-op incision care (suture) | F |  | 0 | 1 | CMS clinical review.
50590 | Fragmenting of kidney stone | EL014 | room, radiographic-fluoroscopic | NF |  | 86 | 0 | Consistent with the AMA RUC's CY2011 recommendation.
|  | EQ175 | lithotriptor, with C-arm (ESWL) | NF |  | 86 | 67 | Refined equipment time to reflect typical use exclusive to patient.
52214 | Cystoscopy and treatment | EF027 | table, instrument, mobile | NF |  | 100 | 65 | Refined equipment time to reflect typical use exclusive to patient.
|  | EF031 | table, power | NF |  | 100 | 65 | Refined equipment time to reflect typical use exclusive to patient.
|  | EQ137 | instrument pack, basic ($500-$1499) | NF |  | 100 | 65 | Refined equipment time to reflect typical use exclusive to patient.
|  | EQ153 | laser (gs, uro, obg, ge) (Indigo Optima) | NF |  | 100 | 65 | Refined equipment time to reflect typical use exclusive to patient.
|  | EQ167 | light source, xenon | NF |  | 100 | 65 | Refined equipment time to reflect typical use exclusive to patient.
|  | ES006 | endoscope forceps, biopsy | NF |  | 100 | 65 | Refined equipment time to reflect typical use exclusive to patient.
|  | ES007 | endoscope forceps, grasping | NF |  | 100 | 65 | Refined equipment time to reflect typical use exclusive to patient.
|  | ES018 | fiberscope, flexible, cystoscopy | NF |  | 100 | 92 | Refined equipment time to reflect typical use exclusive to patient.
|  | ES031 | video system, endoscopy (processor, digital capture, monitor, printer, cart) | NF |  | 100 | 65 | Refined equipment time to reflect typical use exclusive to patient.
|  | L037D | RN/LPN/MTA | NF | Review Chart | 3 | 0 | CMS clinical review.
|  | SB019 | drape-towel, sterile 18in x 26in | NF |  | 1 | 0 | Duplicative.
|  | SB024 | gloves, sterile | NF |  | 0 | 1 | CMS clinical review.
|  | SD270 | Penis clamp | NF |  | 1 | 0 | Not a disposable according to submitted invoice.
|  | SH047 | lidocaine 1%-2% inj (Xylocaine) | NF |  | 50 | 0 | Duplicative.
52224 | Cystoscopy and treatment | EF027 | table, instrument, mobile | NF |  | 105 | 67 | Refined equipment time to reflect typical use exclusive to patient.
|  | EF031 | table, power | NF |  | 105 | 67 | Refined equipment time to reflect typical use exclusive to patient.
|  | EQ137 | instrument pack, basic ($500-$1499) | NF |  | 105 | 67 | Refined equipment time to reflect typical use exclusive to patient.
|  | EQ153 | laser (gs, uro, obg, ge) (Indigo Optima) | NF |  | 105 | 67 | Refined equipment time to reflect typical use exclusive to patient.
|  | EQ167 | light source, xenon | NF |  | 105 | 67 | Refined equipment time to reflect typical use exclusive to patient.
|  | ES006 | endoscope forceps, biopsy | NF |  | 105 | 67 | Refined equipment time to reflect typical use exclusive to patient.
|  | ES007 | endoscope forceps, grasping | NF |  | 105 | 67 | Refined equipment time to reflect typical use exclusive to patient.
|  | ES018 | fiberscope, flexible, cystoscopy | NF |  | 105 | 94 | Refined equipment time to reflect typical use exclusive to patient.
|  | ES031 | video system, endoscopy (processor, digital capture, monitor, printer, cart) | NF |  | 105 | 67 | Refined equipment time to reflect typical use exclusive to patient.
|  | L037D | RN/LPN/MTA | NF | Review Chart | 3 | 0 | CMS clinical review.
|  | L037D | RN/LPN/MTA | NF | Prepare biopsy Specimen | 5 | 2 | CMS clinical review.
|  | SB019 | drape-towel, sterile 18in x 26in | NF |  | 1 | 0 | Duplicative.
|  | SB024 | gloves, sterile | NF |  | 3 | 1 | CMS clinical review.
|  | SD270 | Penis clamp | NF |  | 1 | 0 | Not a disposable according to submitted invoice.
|  | SH047 | lidocaine 1%-2% inj (Xylocaine) | NF |  | 50 | 0 | Duplicative.
|  | SL036 | cup, biopsy-specimen sterile 4oz | NF |  | 6 | 3 | CMS clinical review.
52287 | Cystoscopy chemodenervation | EF027 | table, instrument, mobile | NF |  | 78 | 49 | Refined equipment time to reflect typical use exclusive to patient.
|  | EF031 | table, power | NF |  | 78 | 49 | Refined equipment time to reflect typical use exclusive to patient.
|  | EQ170 | light, fiberoptic headlight w-source | NF |  | 78 | 49 | Refined equipment time to reflect typical use exclusive to patient.
|  | ES018 | fiberscope, flexible, cystoscopy | NF |  | 78 | 76 | Refined equipment time to reflect typical use exclusive to patient.
|  | ES031 | video system, endoscopy (processor, digital capture, monitor, printer, cart) | NF |  | 78 | 49 | Refined equipment time to reflect typical use exclusive to patient.
|  | L037D | RN/LPN/MTA | NF | Assist physician in performing procedure | 20 | 21 | Conforming to physician time.
|  | SH048 | lidocaine 2% jelly, topical (Xylocaine) | NF |  | 10 | 0 | Duplicative.
53850 | Prostatic microwave thermotx | EF020 | stretcher, endoscopy | NF |  | 99 | 85 | Refined equipment time to reflect typical use exclusive to patient.
|  | EF027 | table, instrument, mobile | NF |  | 99 | 85 | Refined equipment time to reflect typical use exclusive to patient.
|  | EF031 | table, power | NF |  | 169 | 152 | Refined equipment time to reflect typical use exclusive to patient.
|  | EF031 | table, power | F |  | 169 | 152 | Refined equipment time to reflect typical use exclusive to patient.
|  | EQ037 | TUMT system control unit | NF |  | 99 | 85 | Refined equipment time to reflect typical use exclusive to patient.
|  | EQ168 | light, exam | NF |  | 169 | 152 | Refined equipment time to reflect typical use exclusive to patient.
|  | EQ168 | light, exam | F |  | 169 | 152 | Refined equipment time to reflect typical use exclusive to patient.
|  | EQ250 | ultrasound unit, portable | NF |  | 99 | 85 | Refined equipment time to reflect typical use exclusive to patient.
|  | L037D | RN/LPN/MTA | NF | Prepare room, equipment, supplies | 2 | 4 | CMS clinical review.
|  | L037D | RN/LPN/MTA | NF | Setup ultrasound probe | 5 | 0 | CMS clinical review.
|  | L037D | RN/LPN/MTA | NF | Setup TUMT machine | 5 | 0 | CMS clinical review.
|  | L037D | RN/LPN/MTA | NF | Clean TUMT machine | 3 | 0 | CMS clinical review.
|  | SB022 | gloves, non-sterile | NF |  | 3 | 2 | CMS clinical review.
|  | SB024 | gloves, sterile | NF |  | 3 | 2 | CMS clinical review.
|  | SH047 | lidocaine 1%-2% inj (Xylocaine) | NF |  | 3 | 30 | CMS clinical review.
64612 | Destroy nerve face muscle | EL006 | lane, screening (oph) | F |  | 39 | 27 | Refined equipment time to reflect typical use exclusive to patient.
|  | EL006 | lane, screening (oph) | NF |  | 48 | 45 | Refined equipment time to reflect typical use exclusive to patient.
|  | SC031 | needle, 30g | F |  | 0 | 1 | CMS clinical review.
64615 | Chemodenerv musc migraine | EF023 | table, exam | NF |  | 24 | 18 | Refined equipment time to reflect typical use exclusive to patient.
65800 | Drainage of eye | EL006 | Lane, Screening | NF |  | 21 | 22 | Refined equipment time to reflect typical use exclusive to patient.
|  | EQ137 | instrument pack, basic ($500-$1499) | NF |  | 21 | 22 | Refined equipment time to reflect typical use exclusive to patient.
67810 | Biopsy eyelid & lid margin | EF014 | light, surgical | NF |  | 20 | 22 | Refined equipment time to reflect typical use exclusive to patient.
|  | EF031 | table, power | NF |  | 20 | 22 | Refined equipment time to reflect typical use exclusive to patient.
|  | EQ110 | electrocautery-hyfrecator, up to 45 watts | NF |  | 1 | 22 | Refined equipment time to reflect typical use exclusive to patient.
|  | EQ137 | instrument pack, basic ($500-$1499) | NF |  | 1 | 30 | Refined equipment time to reflect typical use exclusive to patient.
|  | SB011 | drape, sterile, fenestrated 16in x 29in | NF |  | 0 | 1 | CMS clinical review.
|  | SB019 | drape-towel, sterile 18in x 26in | NF |  | 4 | 1 | CMS clinical review.
|  | SC029 | needle, 18-27g | NF |  | 1 | 0 | Standardized time input.
72040 | X-ray exam neck spine 3/<vws | ED025 | film processor, wet | NF |  | 20 | 4 | Refined equipment time to reflect typical use exclusive to patient.
|  | EL012 | room, basic radiology | NF |  | 20 | 13 | Refined equipment time to reflect typical use exclusive to patient.
|  | ER029 | film alternator (motorized film viewbox) | NF |  | 20 | 4 | Refined equipment time to reflect typical use exclusive to patient.
|  |  | Film jacket or jacket insert | NF |  | 1 | 0 | Non-standard direct practice expense input.
72050 | X-ray exam neck spine 4/5vws | ED025 | film processor, wet | NF |  | 28 | 6 | Refined equipment time to reflect typical use exclusive to patient.
|  | EL012 | room, basic radiology | NF |  | 28 | 19 | Refined equipment time to reflect typical use exclusive to patient.
|  | ER029 | film alternator (motorized film viewbox) | NF |  | 28 | 6 | Refined equipment time to reflect typical use exclusive to patient.
|  |  | Film jacket or jacket insert | NF |  | 1 | 0 | Non-standard direct practice expense input.
72052 | X-ray exam neck spine 6/>vws | ED025 | film processor, wet | NF |  | 36 | 8 | Refined equipment time to reflect typical use exclusive to patient.
|  | EL012 | room, basic radiology | NF |  | 36 | 25 | Refined equipment time to reflect typical use exclusive to patient.
|  | ER029 | film alternator (motorized film viewbox) | NF |  | 36 | 8 | Refined equipment time to reflect typical use exclusive to patient.
|  |  | Film jacket or jacket insert | NF |  | 1 | 0 | Non-standard direct practice expense input.
72191 | Ct angiograph pelv w/o&w/dye | EL007 | room, CT | NF |  | 101 | 40 | Refined equipment time to reflect typical use exclusive to patient.
|  | L041B | Radiologic Technologist | NF | Retrieve prior appropriate imaging exams and hang for MD review, verify orders, review the chart to incorporate relevant clinical information | 0 | 5 | CMS clinical review.
|  | L041B | Radiologic Technologist | NF | Greet patient, provide gowning, assure appropriate medical records are available | 0 | 3 | CMS clinical review.
|  | L041B | Radiologic Technologist | NF | Education/instruction/counseling/obtain consent | 0 | 2 | CMS clinical review.
|  | L041B | Radiologic Technologist | NF | Prepare room, equipment, supplies | 0 | 2 | Standardized time input.
|  | L041B | Radiologic Technologist | NF | Prepare and position patient/monitor patient/set up IV | 0 | 7 | CMS clinical review.
|  | L041B | Radiologic Technologist | NF | Aquire images | 0 | 28 | CMS clinical review.
|  | L041B | Radiologic Technologist | NF | Clean room/equipment by physician staff | 0 | 3 | CMS clinical review.
|  | L046A | CT Technologist | NF | Retrieve prior appropriate imaging exams and hang for MD review, verify orders, review the chart to incorporate relevant clinical information | 5 | 0 | CMS clinical review.
|  | L046A | CT Technologist | NF | Greet patient, provide gowning, assure appropriate medical records are available | 3 | 0 | CMS clinical review.
|  | L046A | CT Technologist | NF | Education/instruction/counseling/obtain consent | 2 | 0 | CMS clinical review.
|  | L046A | CT Technologist | NF | Prepare room, equipment, supplies | 5 | 0 | CMS clinical review.
|  | L046A | CT Technologist | NF | Prepare and position patient/monitor patient/set up IV | 7 | 0 | CMS clinical review.
|  | L046A | CT Technologist | NF | Aquire images | 28 | 0 | CMS clinical review.
|  | L046A | CT Technologist | NF | Clean room/equipment by physician staff | 3 | 0 | CMS clinical review.
|  | SK016 | computer media, optical disk 2.6gb | NF |  | 1 | 0.1 | CMS clinical review.
72192 | Ct pelvis w/o dye | ED024 | film processor, dry, laser | NF |  | 5 | 0 | CMS clinical review.
|  | ED032 | printer, laser, paper | NF |  | 0 | 5 | CMS clinical review.
|  | EL007 | room, CT | NF |  | 45 | 22 | CMS clinical review.
|  | L046A | CT Technologist | NF | Pre-Service Period | 6 | 4 | CMS clinical review.
|  | SK013 | computer media, dvd | NF |  | 1 | 0 | CMS clinical review.
|  | SK016 | computer media, optical disk 2.6gb | NF |  | 0 | 0.1 | CMS clinical review.
|  | SK076 | slide sleeve (photo slides) | NF |  | 0 | 1 | CMS clinical review.
|  | SK091 | x-ray envelope | NF |  | 1 | 0 | CMS clinical review.
|  | SK098 | film, x-ray, laser print | NF |  | 4 | 8 | CMS clinical review.
72193 | Ct pelvis w/dye | ED024 | film processor, dry, laser | NF |  | 5 | 0 | CMS clinical review.
|  | ED032 | printer, laser, paper | NF |  | 0 | 5 | CMS clinical review.
|  | EL007 | room, CT | NF |  | 40 | 32 | CMS clinical review.
|  | L046A | CT Technologist | NF | Pre-Service Period | 7 | 4 | CMS clinical review.
|  | L046A | CT Technologist | NF | Service Period | 40 | 43 | CMS clinical review.
|  | SB006 | drape, non-sterile, sheet 40in x 60in | NF |  | 1 | 0 | CMS clinical review.
|  | SB014 | drape, sterile, three-quarter sheet | NF |  | 0 | 1 | CMS clinical review.
|  | SC001 | angiocatheter 14g-24g | NF |  | 1 | 0 | CMS clinical review.
|  | SC002 | angiocatheter set | NF |  | 0 | 1 | CMS clinical review.
|  | SC025 | needle, 14-20g, biopsy | NF |  | 0 | 1 | CMS clinical review.
|  | SC029 | needle, 18-27g | NF |  | 1 | 0 | CMS clinical review.
|  | SC059 | syringe, 25ml (MRI power injector) | NF |  | 0 | 1 | CMS clinical review.
|  | SG068 | plaster bandage (4in x 5yd uou) | NF |  | 1 | 0 | CMS clinical review.
|  | SG075 | tape, elastic, 1in (Elastoplast, Elasticon) (5yd uou) | NF |  | 0 | 6 | CMS clinical review.
|  | SG079 | tape, surgical paper 1in (Micropore) | NF |  | 6 | 0 | CMS clinical review.
|  | SH065 | sodium chloride 0.9% flush syringe | NF |  | 0 | 15 | CMS clinical review.
|  | SK013 | computer media, dvd | NF |  | 1 | 0 | CMS clinical review.
|  | SK016 | computer media, optical disk 2.6gb | NF |  | 0 | 0.1 | CMS clinical review.
|  | SK076 | slide sleeve (photo slides) | NF |  | 0 | 1 | CMS clinical review.
|  | SK091 | x-ray envelope | NF |  | 1 | 0 | CMS clinical review.
72194 | Ct pelvis w/o & w/dye | ED024 | film processor, dry, laser | NF |  | 10 | 7 | CMS clinical review.
|  | EL007 | room, CT | NF |  | 54 | 39 | CMS clinical review.
|  | ER029 | film alternator (motorized film viewbox) | NF |  | 10 | 7 | CMS clinical review.
|  | L046A | CT Technologist | NF | Pre-Service Period | 7 | 4 | CMS clinical review.
|  | L046A | CT Technologist | NF | Service Period | 54 | 52 | CMS clinical review.
|  | SC025 | needle, 14-20g, biopsy | NF |  | 0 | 1 | CMS clinical review.
|  | SC029 | needle, 18-27g | NF |  | 1 | 0 | CMS clinical review.
|  | SK013 | computer media, dvd | NF |  | 1 | 0 | CMS clinical review.
|  | SK016 | computer media, optical disk 2.6gb | NF |  | 0 | 0.1 | CMS clinical review.
|  | SK076 | slide sleeve (photo slides) | NF |  | 0 | 1 | CMS clinical review.
|  | SK091 | x-ray envelope | NF |  | 1 | 0 | CMS clinical review.
|  | SK098 | film, x-ray, laser print | NF |  | 0 | 8 | CMS clinical review.
73221 | Mri joint upr extrem w/o dye | ED024 | film processor, dry, laser | NF |  | 63 | 33 | Refined equipment time to reflect typical use exclusive to patient.
|  | EL008 | room, MR | NF |  | 63 | 33 | Refined equipment time to reflect typical use exclusive to patient.
|  | ER029 | film alternator (motorized film viewbox) | NF |  | 63 | 33 | Refined equipment time to reflect typical use exclusive to patient.
|  | L047A | MRI Technologist | NF | Prepare room, equipment, supplies | 5 | 3 | CMS clinical review.
|  | L047A | MRI Technologist | NF | Prepare and position patient/monitor patient/set up IV | 3 | 2 | Standardized time input.
|  | L047A | MRI Technologist | NF | Escort patient from exam room due to magnetic sensitivity | 2 | 0 | Non-standard direct practice expense input.
|  |  | Insert folder | NF |  | 1 | 0 | Non-standard direct practice expense input.
73721 | Mri jnt of lwr extre w/o dye | ED024 | film processor, dry, laser | NF |  | 63 | 33 | Refined equipment time to reflect typical use exclusive to patient.
|  | EL008 | room, MR | NF |  | 63 | 33 | Refined equipment time to reflect typical use exclusive to patient.
|  | ER029 | film alternator (motorized film viewbox) | NF |  | 63 | 33 | Refined equipment time to reflect typical use exclusive to patient.
|  | L047A | MRI Technologist | NF | Prepare room, equipment, supplies | 5 | 3 | CMS clinical review.
|  | L047A | MRI Technologist | NF | Prepare and position patient/monitor patient/set up IV | 3 | 2 | Standardized time input.
|  | L047A | MRI Technologist | NF | Escort patient from exam room due to magnetic sensitivity | 2 | 0 | Non-standard direct practice expense input.
|  |  | Insert folder | NF |  | 1 | 0 | Non-standard direct practice expense input.
74150 | Ct abdomen w/o dye | ED024 | film processor, dry, laser | NF |  | 5 | 0 | CMS clinical review.
|  | ED032 | printer, laser, paper | NF |  | 0 | 5 | CMS clinical review.
|  | EL007 | room, CT | NF |  | 32 | 22 | CMS clinical review.
|  | L046A | CT Technologist | NF | Pre-Service Period | 6 | 4 | CMS clinical review.
|  | SK013 | computer media, dvd | NF |  | 1 | 0 | CMS clinical review.
|  | SK016 | computer media, optical disk 2.6gb | NF |  | 0 | 0.1 | CMS clinical review.
|  | SK076 | slide sleeve (photo slides) | NF |  | 0 | 1 | CMS clinical review.
|  | SK091 | x-ray envelope | NF |  | 1 | 0 | CMS clinical review.
|  | SK098 | film, x-ray, laser print | NF |  | 4 | 8 | CMS clinical review.
74160 | Ct abdomen w/dye | ED024 | film processor, dry, laser | NF |  | 7 | 0 | CMS clinical review.
|  | ED032 | printer, laser, paper | NF |  | 0 | 5 | CMS clinical review.
|  | EL007 | room, CT | NF |  | 47 | 32 | CMS clinical review.
|  | ER029 | film alternator (motorized film viewbox) | NF |  | 7 | 5 | CMS clinical review.
|  | L046A | CT Technologist | NF | Pre-Service Period | 7 | 4 | CMS clinical review.
|  | L046A | CT Technologist | NF | Service Period | 47 | 43 | CMS clinical review.
|  | SB006 | drape, non-sterile, sheet 40in x 60in | NF |  | 1 | 0 | CMS clinical review.
|  | SB014 | drape, sterile, three-quarter sheet | NF |  | 0 | 1 | CMS clinical review.
|  | SC001 | angiocatheter 14g-24g | NF |  | 1 | 0 | CMS clinical review.
|  | SC002 | angiocatheter set | NF |  | 0 | 1 | CMS clinical review.
|  | SC025 | needle, 14-20g, biopsy | NF |  | 0 | 1 | CMS clinical review.
|  | SC029 | needle, 18-27g | NF |  | 1 | 0 | CMS clinical review.
|  | SC059 | syringe, 25ml (MRI power injector) | NF |  | 0 | 1 | CMS clinical review.
|  | SG075 | tape, elastic, 1in (Elastoplast, Elasticon) (5yd uou) | NF |  | 0 | 6 | CMS clinical review.
|  | SG079 | tape, surgical paper 1in (Micropore) | NF |  | 6 | 0 | CMS clinical review.
|  | SH065 | sodium chloride 0.9% flush syringe | NF |  | 0 | 15 | CMS clinical review.
|  | SH068 | sodium chloride 0.9% inj bacteriostatic (30ml uou) | NF |  | 1 | 0 | CMS clinical review.
|  | SK013 | computer media, dvd | NF |  | 1 | 0 | CMS clinical review.
|  | SK016 | computer media, optical disk 2.6gb | NF |  | 0 | 0.1 | CMS clinical review.
|  | SK076 | slide sleeve (photo slides) | NF |  | 0 | 1 | CMS clinical review.
|  | SK091 | x-ray envelope | NF |  | 1 | 0 | CMS clinical review.
|  | SK098 | film, x-ray, laser print | NF |  | 6 | 4 | CMS clinical review.
74170 | Ct abdomen w/o & w/dye | ED024 | film processor, dry, laser | NF |  | 15 | 7 | Refined equipment time to reflect typical use exclusive to patient.
|  | EL007 | room, CT | NF |  | 65 | 39 | Refined equipment time to reflect typical use exclusive to patient.
|  | ER029 | film alternator (motorized film viewbox) | NF |  | 15 | 7 | Refined equipment time to reflect typical use exclusive to patient.
|  | L046A | CT Technologist | NF | Retrieve prior appropriate imaging exams and hang for MD review, verify orders, review the chart to incorporate relevant clinical information and confirm contrast protocol with interpreting MD | 7 | 4 | CMS clinical review.
|  | L046A | CT Technologist | NF | Assist physician in performing procedure | 32 | 27 | CMS clinical review.
|  | L046A | CT Technologist | NF | Image Post Processing | 15 | 7 | CMS clinical review.
|  | SB006 | drape, non-sterile, sheet 40in x 60in | NF |  | 1 | 0 | CMS clinical review.
|  | SB014 | drape, sterile, three-quarter sheet | NF |  | 0 | 1 | CMS clinical review.
|  | SC001 | angiocatheter 14g-24g | NF |  | 1 | 0 | CMS clinical review.
|  | SC002 | angiocatheter set | NF |  | 0 | 1 | CMS clinical review.
|  | SC025 | needle, 14-20g, biopsy | NF |  | 0 | 1 | CMS clinical review.
|  | SC029 | needle, 18-27g | NF |  | 1 | 0 | CMS clinical review.
|  | SC059 | syringe, 25ml (MRI power injector) | NF |  | 0 | 1 | CMS clinical review.
|  | SG050 | gauze, non-sterile 2in x 2in | NF |  | 0 | 1 | CMS clinical review.
|  | SG075 | tape, elastic, 1in (Elastoplast, Elasticon) (5yd uou) | NF |  | 0 | 6 | CMS clinical review.
|  | SG079 | tape, surgical paper 1in (Micropore) | NF |  | 6 | 0 | CMS clinical review.
|  | SH016 | barium suspension (Polibar) | NF |  | 900 | 0 | CMS clinical review.
|  | SH065 | sodium chloride 0.9% flush syringe | NF |  | 0 | 15 | CMS clinical review.
|  | SH068 | sodium chloride 0.9% inj bacteriostatic (30ml uou) | NF |  | 1 | 0 | CMS clinical review.
|  | SK013 | computer media, dvd | NF |  | 1 | 0 | CMS clinical review.
|  | SK016 | computer media, optical disk 2.6gb | NF |  | 0 | 0.1 | CMS clinical review.
|  | SK076 | slide sleeve (photo slides) | NF |  | 0 | 1 | CMS clinical review.
|  | SK091 | x-ray envelope | NF |  | 1 | 0 | CMS clinical review.
|  | SK098 | film, x-ray, laser print | NF |  | 14 | 8 | CMS clinical review.
74175 | Ct angio abdom w/o & w/dye | EL007 | room, CT | NF |  | 101 | 40 | Refined equipment time to reflect typical use exclusive to patient.
|  | L041B | Radiologic Technologist | NF | Retrieve prior appropriate imaging exams and hang for MD review, verify orders, review the chart to incorporate relevant clinical information | 0 | 5 | CMS clinical review.
|  | L041B | Radiologic Technologist | NF | Greet patient, provide gowning, assure appropriate medical records are available | 0 | 3 | CMS clinical review.
|  | L041B | Radiologic Technologist | NF | Education/instruction/counseling/obtain consent | 0 | 2 | CMS clinical review.
|  | L041B | Radiologic Technologist | NF | Prepare room, equipment, supplies | 0 | 2 | Standardized time input.
|  | L041B | Radiologic Technologist | NF | Prepare and position patient/monitor patient/set up IV | 0 | 7 | CMS clinical review.
|  | L041B | Radiologic Technologist | NF | Aquire images | 0 | 28 | CMS clinical review.
|  | L041B | Radiologic Technologist | NF | Clean room/equipment by physician staff | 0 | 3 | CMS clinical review.
|  | L046A | CT Technologist | NF | Retrieve prior appropriate imaging exams and hang for MD review, verify orders, review the chart to incorporate relevant clinical information | 5 | 0 | CMS clinical review.
|  | L046A | CT Technologist | NF | Greet patient, provide gowning, assure appropriate medical records are available | 3 | 0 | CMS clinical review.
|  | L046A | CT Technologist | NF | Education/instruction/counseling/obtain consent | 2 | 0 | CMS clinical review.
|  | L046A | CT Technologist | NF | Prepare room, equipment, supplies | 5 | 0 | CMS clinical review.
|  | L046A | CT Technologist | NF | Prepare and position patient/monitor patient/set up IV | 7 | 0 | CMS clinical review.
|  | L046A | CT Technologist | NF | Aquire images | 28 | 0 | CMS clinical review.
|  | L046A | CT Technologist | NF | Clean room/equipment by physician staff | 3 | 0 | CMS clinical review.
|  | SK016 | computer media, optical disk 2.6gb | NF |  | 1 | 0.1 | CMS clinical review.
74176 | Ct abd & pelvis | ED032 | printer, laser, paper | NF |  | 8 | 7 | CMS clinical review.
|  | ER029 | film alternator (motorized film viewbox) | NF |  | 27 | 7 | CMS clinical review.
|  | L046A | CT Technologist | NF | Service Period | 40 | 39 | CMS clinical review.
|  | SK016 | computer media, optical disk 2.6gb | NF |  | 0 | 0.1 | CMS clinical review.
|  | SK076 | slide sleeve (photo slides) | NF |  | 0 | 1 | CMS clinical review.
74177 | Ct abd & pelv w/contrast | ED032 | printer, laser, paper | NF |  | 10 | 7 | CMS clinical review.
|  | EL007 | room, CT | NF |  | 42 | 39 | CMS clinical review.
|  | ER029 | film alternator (motorized film viewbox) | NF |  | 42 | 7 | CMS clinical review.
|  | L046A | CT Technologist | NF | Pre-Service Period | 7 | 6 | CMS clinical review.
|  | L046A | CT Technologist | NF | Service Period | 58 | 52 | CMS clinical review.
|  | SK016 | computer media, optical disk 2.6gb | NF |  | 0 | 0.1 | CMS clinical review.
|  | SK076 | slide sleeve (photo slides) | NF |  | 0 | 1 | CMS clinical review.
|  | SK098 | film, x-ray, laser print | NF |  | 10 | 8 | CMS clinical review.
74178 | Ct abd & pelv 1/> regns | ED032 | printer, laser, paper | NF |  | 20 | 10 | CMS clinical review.
|  | EL007 | room, CT | NF |  | 57 | 48 | CMS clinical review.
|  | ER029 | film alternator (motorized film viewbox) | NF |  | 57 | 10 | CMS clinical review.
|  | L046A | CT Technologist | NF | Pre-Service Period | 7 | 6 | CMS clinical review.
|  | L046A | CT Technologist | NF | Service Period | 83 | 64 | CMS clinical review.
|  | SK016 | computer media, optical disk 2.6gb | NF |  | 0 | 0.1 | CMS clinical review.
|  | SK076 | slide sleeve (photo slides) | NF |  | 0 | 1 | CMS clinical review.
|  | SK098 | film, x-ray, laser print | NF |  | 23 | 16 | CMS clinical review.
76830 | Transvaginal us non-ob | ED024 | film processor, dry, laser | NF |  | 5 | 0 | CMS clinical review.
|  | ED032 | printer, laser, paper | NF |  | 1 | 0 | CMS clinical review.
|  | EF027 | table, instrument, mobile | NF |  | 0 | 36 | Refined equipment time to reflect typical use exclusive to patient.
|  | EF034 | table, ultrasound | NF |  | 0 | 36 | Refined equipment time to reflect typical use exclusive to patient.
|  | EL015 | room, ultrasound, general | NF |  | 37 | 0 | CMS clinical review.
|  | EQ250 | ultrasound unit, portable | NF |  | 0 | 36 | Refined equipment time to reflect typical use exclusive to patient.
|  | ER029 | film alternator (motorized film viewbox) | NF |  | 10 | 0 | CMS clinical review.
|  | ER086 | ultrasound probe | NF |  | 0 | 37 | Refined equipment time to reflect typical use exclusive to patient.
|  | L051B | RN/Diagnostic Medical Sonographer | NF | Clean room/equipment by physician staff | 3 | 2 | CMS clinical review.
|  | SB026 | gown, patient | NF |  | 0 | 1 | CMS clinical review.
|  | SJ033 | lubricating jelly (Surgilube) | NF |  | 1 | 0 | CMS clinical review.
76872 | Us transrectal | EF027 | table, instrument, mobile | NF |  | 68 | 34 | Refined equipment time to reflect typical use exclusive to patient.
|  | EF034 | table, ultrasound | NF |  | 68 | 34 | Refined equipment time to reflect typical use exclusive to patient.
|  | EQ250 | ultrasound unit, portable | NF |  | 68 | 34 | Refined equipment time to reflect typical use exclusive to patient.
|  | ER086 | ultrasound probe | NF |  | 68 | 35 | Refined equipment time to reflect typical use exclusive to patient.
|  | L051B | RN/Diagnostic Medical Sonographer | NF | Retrieve prior images for comparison: | 0 | 3 | CMS clinical review.
|  | L051B | RN/Diagnostic Medical Sonographer | NF | Review Chart | 3 | 0 | CMS clinical review.
|  | L051B | RN/Diagnostic Medical Sonographer | NF | Obtain vital signs | 3 | 0 | CMS clinical review.
|  | L051B | RN/Diagnostic Medical Sonographer | NF | Prepare room, equipment, supplies | 2 | 3 | CMS clinical review.
|  | L051B | RN/Diagnostic Medical Sonographer | NF | Prepare ultrasound probe | 5 | 0 | CMS clinical review.
|  | L051B | RN/Diagnostic Medical Sonographer | NF | Obtain vital signs | 3 | 0 | CMS clinical review.
|  | L051B | RN/Diagnostic Medical Sonographer | NF | Clean room/equipment by physician staff | 3 | 2 | CMS clinical review.
|  | SB012 | drape, sterile, for Mayo stand | NF |  | 1 | 0 | CMS clinical review.
|  | SC019 | iv tubing (extension) | NF |  | 1 | 0 | CMS clinical review.
|  | SH048 | lidocaine 2% jelly, topical (Xylocaine) | NF |  | 10 | 0 | CMS clinical review.
|  | SJ001 | alcohol isopropyl 70% | NF |  | 5 | 0 | CMS clinical review.
|  | SJ032 | lubricating jelly (K-Y) (5gm uou) | NF |  | 2 | 0 | CMS clinical review.
|  | SM018 | glutaraldehyde 3.4% (Cidex, Maxicide, Wavicide) | NF |  | 32 | 0 | CMS clinical review.
|  | SM019 | glutaraldehyde test strips (Cidex, Metrex) | NF |  | 1 | 0 | CMS clinical review.
|  | SM022 | sanitizing cloth-wipe (surface, instruments, equipment) | NF |  | 2 | 0 | CMS clinical review.
77003 | Fluoroguide for spine inject | ED025 | film processor, wet | NF |  | 3 | 2 | Refined equipment time to reflect typical use exclusive to patient.
|  | EL014 | room, radiographic-fluoroscopic | NF |  | 9 | 18 | Refined equipment time to reflect typical use exclusive to patient.
|  | ER029 | film alternator (motorized film viewbox) | NF |  | 3 | 2 | Refined equipment time to reflect typical use exclusive to patient.
|  | L041B | Radiologic Technologist | NF | Clean room/equipment by physician staff | 2 | 1 | CMS clinical review.
|  | L041B | Radiologic Technologist | NF | Process films, hang films and review study with interpreting MD prior to patient discharge | 3 | 2 | CMS clinical review.
77080 | Dxa bone density axial | ER078 | phantom, spine, DXA calibration check | NF |  | 1 | 2 | Refined equipment time to reflect typical use exclusive to patient.
77301 | Radiotherapy dose plan imrt | ED011 | computer system, record and verify | NF |  | 20 | 0 | CMS clinical review.
|  | ED033 | treatment planning system, IMRT (Corvus w-Peregrine 3D Monte Carlo) | NF |  | 376 | 330 | CMS clinical review.
|  | ER005 | IMRT CT-based simulator | NF |  | 58 | 47 | CMS clinical review.
|  | ER014 | chamber, Farmer-type | NF |  | 45 | 47 | Refined equipment time to reflect typical use exclusive to patient.
|  | ER028 | electrometer, PC-based, dual channel | NF |  | 45 | 47 | Refined equipment time to reflect typical use exclusive to patient.
|  | ER050 | phantom, solid water calibration check | NF |  | 45 | 47 | Refined equipment time to reflect typical use exclusive to patient.
|  | ER089 | IMRT accelerator | NF |  | 45 | 47 | CMS clinical review.
|  | L037D | RN/LPN/MTA | NF | Obtain vital signs | 3 | 0 | CMS clinical review.
78012 | Thyroid uptake measurement | EF010 | chair, thyroid imaging | NF |  | 40 | 30 | Refined equipment time to reflect typical use exclusive to patient.
|  | ER063 | thyroid uptake system | NF |  | 40 | 30 | Refined equipment time to reflect typical use exclusive to patient.
78013 | Thyroid imaging w/blood flow | ER032 | gamma camera system, single-dual head | NF |  | 48 | 38 | Refined equipment time to reflect typical use exclusive to patient.
78014 | Thyroid imaging w/blood flow | EF010 | chair, thyroid imaging | NF |  | 65 | 55 | Refined equipment time to reflect typical use exclusive to patient.
|  | ER032 | gamma camera system, single-dual head | NF |  | 65 | 50 | Refined equipment time to reflect typical use exclusive to patient.
|  | ER063 | thyroid uptake system | NF |  | 65 | 55 | Refined equipment time to reflect typical use exclusive to patient.
78070 | Parathyroid planar imaging | ER032 | gamma camera system, single-dual head | NF |  | 73 | 68 | Refined equipment time to reflect typical use exclusive to patient.
78071 | Parathyrd planar w/wo subtrj | ER032 | gamma camera system, single-dual head | NF |  | 86 | 81 | Refined equipment time to reflect typical use exclusive to patient.
86153 | Cell enumeration phys interp | EP106 | CELLSEARCH system | NF |  | 16 | 0 | Laboratory physician interpretation code.
|  | EP107 | Laboratory Information System | NF |  | 4 | 0 | Laboratory physician interpretation code.
|  | L045A | Cytotechnologist | NF | Collate images and review with Pathologist | 5 | 0 | Laboratory physician interpretation code.
88120 | Cytp urne 3-5 probes ea spec | EP088 | ThermoBrite | NF |  | 107 | 321 | CMS clinical review.
|  | EP092 | Olympus BX41 Fluorescent Microscope (without filters or camera ) | NF |  | 1.33 | 73.00 | CMS clinical review.
88121 | Cytp urine 3-5 probes cmptr | EP088 | ThermoBrite | NF |  | 26.75 | 160.50 | CMS clinical review.
|  | EP090 | IkoniLan Software | NF |  | 2.97 | 29.70 | CMS clinical review.
|  | EP091 | IkoniScope | NF |  | 2.97 | 29.70 | CMS clinical review.
88300 | Surgical path gross |  | courier transportation cost | NF |  | 2.02 | 0 | Indirect Practice Expense.
|  |  | Copath System with maintenance contract | NF |  | 3 | 0 | Indirect Practice Expense.
|  |  | Copath software | NF |  | 3 | 0 | Indirect Practice Expense.
88302 | Tissue exam by pathologist |  | specimen, solvent, and formalin disposal cost | NF |  | 0.18 | 0 | Indirect Practice Expense.
|  |  | courier transportation cost | NF |  | 2.02 | 0 | Indirect Practice Expense.
|  |  | equipment maintenance cost | NF |  | 0.61 | 0 | Included in equipment cost per minute calculation.
|  |  | Copath System with maintenance contract | NF |  | 3 | 0 | Indirect Practice Expense.
|  |  | Copath software | NF |  | 3 | 0 | Indirect Practice Expense.
88304 | Tissue exam by pathologist |  | specimen, solvent, and formalin disposal cost | NF |  | 0.35 | 0 | Indirect Practice Expense.
|  |  | courier transportation cost | NF |  | 2.02 | 0 | Indirect Practice Expense.
|  |  | equipment maintenance cost | NF |  | 0.61 | 0 | Included in equipment cost per minute calculation.
|  |  | Copath System with maintenance contract | NF |  | 5 | 0 | Indirect Practice Expense.
|  |  | Copath software | NF |  | 5 | 0 | Indirect Practice Expense.
88305 | Tissue exam by pathologist |  | specimen, solvent, and formalin disposal cost | NF |  | 0.35 | 0 | Indirect Practice Expense.
|  |  | courier transportation cost | NF |  | 2.02 | 0 | Indirect Practice Expense.
|  |  | equipment maintenance cost | NF |  | 0.61 | 0 | Included in equipment cost per minute calculation.
|  |  | Copath System with maintenance contract | NF |  | 4 | 0 | Indirect Practice Expense.
|  |  | Copath software | NF |  | 4 | 0 | Indirect Practice Expense.
88307 | Tissue exam by pathologist |  | specimen, solvent, and formalin disposal cost | NF |  | 1.85 | 0 | Indirect Practice Expense.
|  |  | courier transportation cost | NF |  | 2.02 | 0 | Indirect Practice Expense.
|  |  | equipment maintenance cost | NF |  | 0.61 | 0 | Included in equipment cost per minute calculation.
|  |  | Copath System with maintenance contract | NF |  | 10 | 0 | Indirect Practice Expense.
|  |  | Copath software | NF |  | 10 | 0 | Indirect Practice Expense.
88309 | Tissue exam by pathologist |  | specimen, solvent, and formalin disposal cost | NF |  | 1.85 | 0 | Indirect Practice Expense.
|  |  | courier transportation cost | NF |  | 2.02 | 0 | Indirect Practice Expense.
|  |  | equipment maintenance cost | NF |  | 0.61 | 0 | Included in equipment cost per minute calculation.
|  |  | Copath System with maintenance contract | NF |  | 12 | 0 | Indirect Practice Expense.
|  |  | Copath software | NF |  | 12 | 0 | Indirect Practice Expense.
90791 | Psych diagnostic evaluation |  |  | NF |  |  |  | 2012 Fully Implemented PE RVUs maintained.
90832 | Psytx pt&/family 30 minutes |  |  | NF |  |  |  | 2012 Fully Implemented PE RVUs maintained.
90834 | Psytx pt&/family 45 minutes |  |  | NF |  |  |  | 2012 Fully Implemented PE RVUs maintained.
90836 | Psytx pt&/fam w/e&m 45 min |  |  | NF |  |  |  | 2012 Fully Implemented PE RVUs maintained.
91112 | Gi wireless capsule measure |  | Activation Fixture | NF |  | 5 | 0 | CMS clinical review.
|  |  | Docking Station | NF |  | 40 | 0 | CMS clinical review.
|  |  | MotiliGI software | NF |  | 40 | 0 | CMS clinical review.
|  | EQ352 | Data receiver | NF |  | 7,220 | 2,880 | CMS clinical review.
|  | SA048 | pack, minimum multi-specialty visit | NF |  | 1 | 0 | CMS clinical review.
|  |  | SmartBar | NF |  | 1 | 0 | CMS clinical review.
92081 | Visual field examination(s) | SA050 | pack, ophthalmology visit (no dilation) | NF |  | 1 | 0 | CMS clinical review.
|  | EL006 | lane, screening (oph) | NF |  | 12 | 17 | Refined equipment time to reflect typical use exclusive to patient.
|  | EQ029 | Humphrey field analyzer | NF |  | 12 | 17 | Refined equipment time to reflect typical use exclusive to patient.
|  | EQ165 | lens set, trial, full diameter, w-frame | NF |  | 12 | 17 | CMS clinical review.
92082 | Visual field examination(s) | SA050 | pack, ophthalmology visit (no dilation) | NF |  | 1 | 0 | CMS clinical review.
|  | EL006 | lane, screening (oph) | NF |  | 22 | 27 | Refined equipment time to reflect typical use exclusive to patient.
|  | EQ029 | Humphrey field analyzer | NF |  | 22 | 27 | Refined equipment time to reflect typical use exclusive to patient.
|  | EQ165 | lens set, trial, full diameter, w-frame | NF |  | 22 | 27 | CMS clinical review.
92083 | Visual field examination(s) | SA050 | pack, ophthalmology visit (no dilation) | NF |  | 1 | 0 | CMS clinical review.
|  | EL006 | lane, screening (oph) | NF |  | 32 | 37 | Refined equipment time to reflect typical use exclusive to patient.
|  | EQ029 | Humphrey field analyzer | NF |  | 32 | 37 | Refined equipment time to reflect typical use exclusive to patient.
|  | EQ165 | lens set, trial, full diameter, w-frame | NF |  | 32 | 37 | CMS clinical review.
92235 | Eye exam with photos | ED008 | camera, retinal (TRC 50IX, w-ICG, filters, motor drives) | NF |  | 60 | 35 | Refined equipment time to reflect typical use exclusive to patient.
|  | EF030 | table, motorized (for instruments-equipment) | NF |  | 60 | 35 | Refined equipment time to reflect typical use exclusive to patient.
|  | EL005 | lane, exam (oph) | NF |  | 60 | 35 | Refined equipment time to reflect typical use exclusive to patient.
|  | L038A | COMT/COT/RN/CST | NF | Monitor pt. following service/check tubes, monitors, drains | 5 | 2 | CMS clinical review.
|  | L039A | Certified Retinal Angio | NF | Assist physician in performing procedure | 40 | 20 | CMS clinical review.
93015 | Cardiovascular stress test | EF023 | table, exam | NF |  | 58 | 46 | Refined equipment time to reflect typical use exclusive to patient.
|  | EQ078 | cardiac monitor w-treadmill (12-lead PC-based ECG) | NF |  | 58 | 46 | Refined equipment time to reflect typical use exclusive to patient.
|  | L051A | RN | NF | Assist physician in performing procedure | 20 | 14 | CMS clinical review.
93017 | Cardiovascular stress test | EF023 | table, exam | NF |  | 58 | 46 | Refined equipment time to reflect typical use exclusive to patient.
|  | EQ078 | cardiac monitor w-treadmill (12-lead PC-based ECG) | NF |  | 58 | 46 | Refined equipment time to reflect typical use exclusive to patient.
|  | L051A | RN | NF | Assist physician in performing procedure | 20 | 14 | CMS clinical review.
|  | L051A | RN | NF | Complete diagnostic forms, lab & X-ray requisitions | 0 | 4 | CMS clinical review.
93925 | Lower extremity study | ED011 | computer system, record and verify | NF |  | 10 | 0 | CMS clinical review.
|  | ED021 | computer, desktop, w-monitor | NF |  | 95 | 7 | Refined equipment time to reflect typical use exclusive to patient.
|  | ED025 | film processor, wet | NF |  | 10 | 7 | Refined equipment time to reflect typical use exclusive to patient.
|  | ED034 | video SVHS VCR (medical grade) | NF |  | 95 | 0 | CMS clinical review.
|  | EL016 | room, ultrasound, vascular | NF |  | 95 | 76 | Refined equipment time to reflect typical use exclusive to patient.
|  | ER067 | x-ray view box, 4 panel | NF |  | 10 | 7 | Refined equipment time to reflect typical use exclusive to patient.
|  | L054A | Vascular Technologist | NF | Provide pre-service education/obtain consent | 3 | 2 | CMS clinical review.
|  | L054A | Vascular Technologist | NF | Prepare room, equipment, supplies | 3 | 2 | Standardized time input.
|  | L054A | Vascular Technologist | NF | Prepare and position patient | 3 | 2 | Standardized time input.
|  | L054A | Vascular Technologist | NF | Other Clinical Activity: Collate preliminary data, arrange images, archive | 10 | 7 | CMS clinical review.
|  | L054A | Vascular Technologist | NF | Other Clinical Activity: Record patient history | 1 | 0 | CMS clinical review.
|  | L054A | Vascular Technologist | NF | Other Clinical Activity: QA documentation | 4 | 0 | CMS clinical review.
|  | SK086 | video tape, VHS | NF |  | 1 | 0 | CMS clinical review.
93926 | Lower extremity study | ED011 | computer system, record and verify | NF |  | 10 | 0 | CMS clinical review.
|  | ED021 | computer, desktop, w-monitor | NF |  | 59 | 4 | Refined equipment time to reflect typical use exclusive to patient.
|  | ED025 | film processor, wet | NF |  | 10 | 4 | Refined equipment time to reflect typical use exclusive to patient.
|  | ED034 | video SVHS VCR (medical grade) | NF |  | 59 | 0 | CMS clinical review.
|  | EL016 | room, ultrasound, vascular | NF |  | 59 | 42 | Refined equipment time to reflect typical use exclusive to patient.
|  | ER067 | x-ray view box, 4 panel | NF |  | 10 | 4 | Refined equipment time to reflect typical use exclusive to patient.
|  | L054A | Vascular Technologist | NF | Provide pre-service education/obtain consent | 3 | 2 | CMS clinical review.
|  | L054A | Vascular Technologist | NF | Prepare room, equipment, supplies | 3 | 2 | Standardized time input.
|  | L054A | Vascular Technologist | NF | Prepare and position patient | 3 | 2 | Standardized time input.
|  | L054A | Vascular Technologist | NF | Other Clinical Activity: Collate preliminary data, arrange images, archive | 8 | 4 | CMS clinical review.
|  | L054A | Vascular Technologist | NF | Other Clinical Activity: Record patient history | 1 | 0 | CMS clinical review.
|  | L054A | Vascular Technologist | NF | Other Clinical Activity: QA documentation | 4 | 0 | CMS clinical review.
|  | SK086 | video tape, VHS | NF |  | 1 | 0 | CMS clinical review.
93970 | Extremity study | ED011 | computer system, record and verify | NF |  | 10 | 0 | CMS clinical review.
|  | ED021 | computer, desktop, w-monitor | NF |  | 71 | 7 | Refined equipment time to reflect typical use exclusive to patient.
|  | ED025 | film processor, wet | NF |  | 10 | 7 | Refined equipment time to reflect typical use exclusive to patient.
|  | ED034 | video SVHS VCR (medical grade) | NF |  | 71 | 0 | CMS clinical review.
|  | EL016 | room, ultrasound, vascular | NF |  | 71 | 52 | Refined equipment time to reflect typical use exclusive to patient.
|  | ER067 | x-ray view box, 4 panel | NF |  | 10 | 7 | Refined equipment time to reflect typical use exclusive to patient.
|  | L054A | Vascular Technologist | NF | Provide pre-service education/obtain consent | 3 | 2 | CMS clinical review.
|  | L054A | Vascular Technologist | NF | Prepare room, equipment, supplies | 3 | 2 | Standardized time input.
|  | L054A | Vascular Technologist | NF | Prepare and position patient | 3 | 2 | Standardized time input.
|  | L054A | Vascular Technologist | NF | Other Clinical Activity: Collate preliminary data, arrange images, archive | 10 | 7 | CMS clinical review.
|  | L054A | Vascular Technologist | NF | Other Clinical Activity: Record patient history | 1 | 0 | CMS clinical review.
|  | L054A | Vascular Technologist | NF | Other Clinical Activity: QA documentation | 4 | 0 | CMS clinical review.
|  | SK086 | video tape, VHS | NF |  | 1 | 0 | CMS clinical review.
93971 | Extremity study | ED011 | computer system, record and verify | NF |  | 10 | 0 | CMS clinical review.
|  | ED021 | computer, desktop, w-monitor | NF |  | 45 | 4 | Refined equipment time to reflect typical use exclusive to patient.
|  | ED025 | film processor, wet | NF |  | 10 | 4 | Refined equipment time to reflect typical use exclusive to patient.
|  | ED034 | video SVHS VCR (medical grade) | NF |  | 45 | 0 | CMS clinical review.
|  | EL016 | room, ultrasound, vascular | NF |  | 45 | 30 | CMS clinical review.
|  | ER067 | x-ray view box, 4 panel | NF |  | 10 | 4 | Refined equipment time to reflect typical use exclusive to patient.
|  | L054A | Vascular Technologist | NF | Provide pre-service education/obtain consent | 3 | 2 | CMS clinical review.
|  | L054A | Vascular Technologist | NF | Prepare room, equipment, supplies | 3 | 2 | Standardized time input.
|  | L054A | Vascular Technologist | NF | Prepare and position patient | 3 | 2 | Standardized time input.
|  | L054A | Vascular Technologist | NF | Other Clinical Activity: Collate preliminary data, arrange images, archive | 6 | 4 | CMS clinical review.
|  | L054A | Vascular Technologist | NF | Other Clinical Activity: Record patient history | 1 | 0 | CMS clinical review.
|  | L054A | Vascular Technologist | NF | Other Clinical Activity: QA documentation | 4 | 0 | CMS clinical review.
|  | SB006 | drape, non-sterile, sheet 40in x 60in | NF |  | 2 | 1 | CMS clinical review.
|  | SK086 | video tape, VHS | NF |  | 1 | 0 | CMS clinical review.
95076 | Ingest challenge ini 120 min | EF023 | table, exam | NF |  | 141 | 133 | Refined equipment time to reflect typical use exclusive to patient.
|  | EQ168 | light, exam | NF |  | 141 | 133 | Refined equipment time to reflect typical use exclusive to patient.
|  | L037D | RN/LPN/MTA | NF | Prepare testing doses | 15 | 7 | CMS clinical review.
95115 | Immunotherapy one injection | EF040 | refrigerator, vaccine, commercial grade, w-alarm lock | NF |  | 15 | 0 | CMS clinical review.
95117 | Immunotherapy injections | EF041 | x-ray machine, portable | NF |  | 17 | 0 | CMS clinical review.
95782 | Polysom <6 yrs 4/> paramtrs | EF003 | bedroom furniture (hospital bed, table, reclining chair) | NF |  | 660 | 602 | Refined equipment time to reflect typical use exclusive to patient.
|  |  | Crib | NF |  | 660 | 0 | CMS clinical review.
|  | EQ134 | impedance meter, 32-channel | NF |  | 660 | 602 | Refined equipment time to reflect typical use exclusive to patient.
|  | EQ272 | sleep diagnostic system, attended (w-acquisition station, review master, computer) | NF |  | 660 | 662 | Refined equipment time to reflect typical use exclusive to patient.
|  |  | Capnograph | NF |  | 660 | 0 | Duplicative.
|  | ER088 | Infrared illuminator | NF |  | 660 | 602 | Refined equipment time to reflect typical use exclusive to patient.
|  | L047B | REEGT | NF | Provide pre-service education/obtain consent | 5 | 3 | CMS clinical review.
|  | L047B | REEGT | NF | Other Clinical Activity—specify: Set up and calibrate all monitoring and recording equipment (initial), including capnograph (for child) | 6 | 5 | CMS clinical review.
|  | L047B | REEGT | NF | Other Clinical Activity—specify: Measure and mark head and face. Apply and secure electrodes to head and face. Check impedances. Reapply electrodes as needed. (1.5 min per electrode for child, 1 min per electrode for adult) | 30 | 20 | CMS clinical review.
|  | L047B | REEGT | NF | Other Clinical Activity—specify: Apply recording devices for cardio-respiratory, leg movements, body positioning and snoring | 0 | 15 | CMS clinical review.
|  | L047B | REEGT | NF | Other Clinical Activity—specify: Apply recording devices for cardio-respiratory, leg movements, body positioning, snoring and capnography | 20 | 0 | CMS clinical review.
|  | L047B | REEGT | NF | Other Clinical Activity—specify: Daytime tech reviews and edits recording, marks artifacts, scores sleep stages, performs evaluation of physiological changes | 100 | 97 | CMS clinical review.
95783 | Polysom <6 yrs cpap/bilvl | EF003 | bedroom furniture (hospital bed, table, reclining chair) | NF |  | 660 | 647 | Refined equipment time to reflect typical use exclusive to patient.
|  |  | Crib | NF |  | 660 | 0 | CMS clinical review.
|  | EQ134 | impedance meter, 32-channel | NF |  | 660 | 647 | Refined equipment time to reflect typical use exclusive to patient.
|  | EQ272 | sleep diagnostic system, attended (w-acquisition station, review master, computer) | NF |  | 660 | 707 | Refined equipment time to reflect typical use exclusive to patient.
|  |  | Capnograph | NF |  | 660 | 0 | Duplicative.
|  | ER088 | Infrared illuminator | NF |  | 660 | 647 | Refined equipment time to reflect typical use exclusive to patient.
|  | L047B | REEGT | NF | Provide pre-service education/obtain consent | 5 | 3 | CMS clinical review.
|  | L047B | REEGT | NF | Other Clinical Activity—specify: Set up and calibrate all monitoring and recording equipment (initial), including capnograph (for child) | 6 | 5 | CMS clinical review.
|  | L047B | REEGT | NF | Other Clinical Activity—specify: Measure and mark head and face. Apply and secure electrodes to head and face. Check impedances. Reapply electrodes as needed. (1.5 min per electrode for child, 1 min per electrode for adult) | 30 | 20 | CMS clinical review.
|  | L047B | REEGT | NF | Other Clinical Activity—specify: Apply recording devices for cardio-respiratory, leg movements, body positioning and snoring | 0 | 15 | CMS clinical review.
|  | L047B | REEGT | NF | Other Clinical Activity—specify: Apply recording devices for cardio-respiratory, leg movements, body positioning, snoring and capnography | 20 | 0 | CMS clinical review.
|  | L047B | REEGT | NF | Other Clinical Activity—specify: Daytime tech reviews and edits recording, marks artifacts, scores sleep stages, performs evaluation of physiological changes | 100 | 97 | CMS clinical review.
95861 | Muscle test 2 limbs | EF023 | table, exam | NF |  | 44 | 41 | Refined equipment time to reflect typical use exclusive to patient.
|  | EQ024 | EMG-NCV-EP system, 8 channel | NF |  | 44 | 41 | Refined equipment time to reflect typical use exclusive to patient.
|  | L037A | Electrodiagnostic Technologist | NF | Assist physician in performing procedure | 19 | 29 | Conforming to physician time.
95863 | Muscle test 3 limbs | EF023 | table, exam | NF |  | 58 | 52 | Refined equipment time to reflect typical use exclusive to patient.
|  | EQ024 | EMG-NCV-EP system, 8 channel | NF |  | 58 | 52 | Refined equipment time to reflect typical use exclusive to patient.
95864 | Muscle test 4 limbs | EF023 | table, exam | NF |  | 71 | 62 | Refined equipment time to reflect typical use exclusive to patient.
|  | EQ024 | EMG-NCV-EP system, 8 channel | NF |  | 71 | 62 | Refined equipment time to reflect typical use exclusive to patient.
95868 | Muscle test cran nerve bilat | EF023 | table, exam | NF |  | 35 | 32 | Refined equipment time to reflect typical use exclusive to patient.
|  | EQ024 | EMG-NCV-EP system, 8 channel | NF |  | 35 | 32 | Refined equipment time to reflect typical use exclusive to patient.
95907 | Motor&/sens 1-2 nrv cndj tst | SG051 | gauze, non-sterile 4in x 4in | NF |  | 0 | 4 | CMS clinical review.
|  | SG055 | gauze, sterile 4in x 4in | NF |  | 4 | 0 | CMS clinical review.
|  | SG079 | tape, surgical paper 1in (Micropore) | NF |  | 12 | 0 | CMS clinical review.
|  | SJ022 | electrode skin prep gel (NuPrep) | NF |  | 100 | 0 | CMS clinical review.
95908 | Motor&/sens 3-4 nrv cndj tst | SG051 | gauze, non-sterile 4in x 4in | NF |  | 0 | 8 | CMS clinical review.
|  | SG055 | gauze, sterile 4in x 4in | NF |  | 8 | 0 | CMS clinical review.
|  | SG079 | tape, surgical paper 1in (Micropore) | NF |  | 24 | 0 | CMS clinical review.
|  | SJ022 | electrode skin prep gel (NuPrep) | NF |  | 100 | 0 | CMS clinical review.
95909 | Motor&/sens 5-6 nrv cndj tst | SG051 | gauze, non-sterile 4in x 4in | NF |  | 0 | 12 | CMS clinical review.
|  | SG055 | gauze, sterile 4in x 4in | NF |  | 12 | 0 | CMS clinical review.
|  | SG079 | tape, surgical paper 1in (Micropore) | NF |  | 36 | 0 | CMS clinical review.
|  | SJ022 | electrode skin prep gel (NuPrep) | NF |  | 100 | 0 | CMS clinical review.
95910 | Motor&sens 7-8 nrv cndj test | L037A | Electrodiagnostic Technologist | NF |  | 50 | 40 | Conforming to physician time.
|  | SG051 | gauze, non-sterile 4in x 4in | NF |  | 0 | 16 | CMS clinical review.
|  | SG055 | gauze, sterile 4in x 4in | NF |  | 16 | 0 | CMS clinical review.
|  | SG079 | tape, surgical paper 1in (Micropore) | NF |  | 48 | 0 | CMS clinical review.
|  | SJ022 | electrode skin prep gel (NuPrep) | NF |  | 100 | 0 | CMS clinical review.
95911 | Motor&sen 9-10 nrv cndj test | L037A | Electrodiagnostic Technologist | NF |  | 64 | 50 | Conforming to physician time.
|  | SG051 | gauze, non-sterile 4in x 4in | NF |  | 0 | 20 | CMS clinical review.
|  | SG055 | gauze, sterile 4in x 4in | NF |  | 20 | 0 | CMS clinical review.
|  | SG079 | tape, surgical paper 1in (Micropore) | NF |  | 60 | 0 | CMS clinical review.
|  | SJ022 | electrode skin prep gel (NuPrep) | NF |  | 100 | 0 | CMS clinical review.
95912 | Motor&sen 11-12 nrv cnd test | L037A | Electrodiagnostic Technologist | NF |  | 77 | 60 | Conforming to physician time.
|  | SG051 | gauze, non-sterile 4in x 4in | NF |  | 0 | 24 | CMS clinical review.
|  | SG055 | gauze, sterile 4in x 4in | NF |  | 24 | 0 | CMS clinical review.
|  | SG079 | tape, surgical paper 1in (Micropore) | NF |  | 72 | 0 | CMS clinical review.
|  | SJ022 | electrode skin prep gel (NuPrep) | NF |  | 100 | 0 | CMS clinical review.
95913 | Motor&sens 13/> nrv cnd test | L037A | Electrodiagnostic Technologist | NF |  | 87 | 70 | Conforming to physician time.
|  | SG051 | gauze, non-sterile 4in x 4in | NF |  | 0 | 26 | CMS clinical review.
|  | SG055 | gauze, sterile 4in x 4in | NF |  | 26 | 0 | CMS clinical review.
|  | SG079 | tape, surgical paper 1in (Micropore) | NF |  | 78 | 0 | CMS clinical review.
|  | SJ022 | electrode skin prep gel (NuPrep) | NF |  | 100 | 0 | CMS clinical review.
95921 | Autonomic nrv parasym inervj | EF032 | table, tilt (w-trendelenberg) | NF |  | 64 | 55 | Refined equipment time to reflect typical use exclusive to patient.
|  | EQ051 | arterial tonometry acquisition system (WR Testworks) | NF |  | 64 | 55 | Refined equipment time to reflect typical use exclusive to patient.
|  | EQ052 | arterial tonometry monitor (Colin Pilot) | NF |  | 64 | 55 | Refined equipment time to reflect typical use exclusive to patient.
|  | L037A | Electrodiagnostic Technologist | NF | Greet patient, provide gowning, assure appropriate medical records are available | 3 | 0 | CMS clinical review.
|  | L037A | Electrodiagnostic Technologist | NF | Obtain vital signs | 3 | 0 | CMS clinical review.
|  | L037A | Electrodiagnostic Technologist | NF | Monitor pt. following service/check tubes, monitors, drains | 5 | 2 | CMS clinical review.
95922 | Autonomic nrv adrenrg inervj | EF032 | table, tilt (w-trendelenberg) | NF |  | 79 | 70 | Refined equipment time to reflect typical use exclusive to patient.
|  | EQ051 | arterial tonometry acquisition system (WR Testworks) | NF |  | 79 | 70 | Refined equipment time to reflect typical use exclusive to patient.
|  | EQ052 | arterial tonometry monitor (Colin Pilot) | NF |  | 79 | 70 | Refined equipment time to reflect typical use exclusive to patient.
|  | L037A | Electrodiagnostic Technologist | NF | Greet patient, provide gowning, assure appropriate medical records are available | 3 | 0 | CMS clinical review.
|  | L037A | Electrodiagnostic Technologist | NF | Obtain vital signs | 3 | 0 | CMS clinical review.
|  | L037A | Electrodiagnostic Technologist | NF | Monitor pt. following service/check tubes, monitors, drains | 5 | 2 | CMS clinical review.
95923 | Autonomic nrv syst funj test | EQ035 | QSART acquisition system (Q-Sweat) | NF |  | 74 | 61 | Refined equipment time to reflect typical use exclusive to patient.
|  | EQ124 | stimulator, constant current, w-stimulating and grounding electrodes (Grass Telefactor) | NF |  | 74 | 61 | Refined equipment time to reflect typical use exclusive to patient.
|  | EQ171 | light, infra-red, ceiling mount | NF |  | 74 | 61 | Refined equipment time to reflect typical use exclusive to patient.
|  | L037A | Electrodiagnostic Technologist | NF | Assist physician in performing procedure | 55 | 45 | CMS clinical review.
|  | L037A | Electrodiagnostic Technologist | NF | Monitor pt. following service/check tubes, monitors, drains | 5 | 2 | CMS clinical review.
|  | SJ020 | electrode conductive gel | NF |  | 5 | 0 | CMS clinical review.
95924 | Ans parasymp & symp w/tilt | EF032 | table, tilt (w-trendelenberg) | NF |  | 79 | 76 | Refined equipment time to reflect typical use exclusive to patient.
|  | EQ051 | arterial tonometry acquisition system (WR Testworks) | NF |  | 79 | 76 | Refined equipment time to reflect typical use exclusive to patient.
|  | EQ052 | arterial tonometry monitor (Colin Pilot) | NF |  | 79 | 76 | Refined equipment time to reflect typical use exclusive to patient.
|  | L037A | Electrodiagnostic Technologist | NF | Monitor pt. following service/check tubes, monitors, drains | 5 | 2 | CMS clinical review.
96920 | Laser tx skin < 250 sq cm | EF031 | table, power | NF |  | 20 | 26 | Refined equipment time to reflect typical use exclusive to patient.
|  | EQ161 | laser, excimer | NF |  | 20 | 26 | Refined equipment time to reflect typical use exclusive to patient.
|  | EQ168 | light, exam | NF |  | 17 | 26 | Refined equipment time to reflect typical use exclusive to patient.
|  |  | Annual Laser Service Package | NF |  | 1 | 0 | Included in equipment cost per minute calculation.
|  | L037D | RN/LPN/MTA | NF | Monitor pt. following service/check tubes, monitors, drains | 3 | 1 | CMS clinical review.
|  | L037D | RN/LPN/MTA | NF | Clean room/equipment by physician staff | 3 | 2 | CMS clinical review.
|  | SF028 | laser tip (single use) | NF |  | 1 | 0 | CMS clinical review.
|  | SJ029 | ice pack, instant | NF |  | 4 | 1 | CMS Code correction.
96921 | Laser tx skin 250-500 sq cm | EF031 | table, power | NF |  | 23 | 29 | Refined equipment time to reflect typical use exclusive to patient.
|  | EQ161 | laser, excimer | NF |  | 23 | 29 | Refined equipment time to reflect typical use exclusive to patient.
|  | EQ168 | light, exam | NF |  | 23 | 29 | Refined equipment time to reflect typical use exclusive to patient.
|  |  | Annual Laser Service Package | NF |  | 1 | 0 | Included in equipment cost per minute calculation.
|  | L037D | RN/LPN/MTA | NF | Monitor pt. following service/check tubes, monitors, drains | 3 | 1 | CMS clinical review.
|  | L037D | RN/LPN/MTA | NF | Clean room/equipment by physician staff | 3 | 2 | CMS clinical review.
|  | SF028 | laser tip (single use) | NF |  | 1 | 0 | CMS clinical review.
|  | SJ029 | ice pack, instant | NF |  | 4 | 2 | CMS Code correction.
96922 | Laser tx skin >500 sq cm | EF031 | table, power | NF |  | 33 | 39 | Refined equipment time to reflect typical use exclusive to patient.
|  | EQ161 | laser, excimer | NF |  | 33 | 39 | Refined equipment time to reflect typical use exclusive to patient.
|  | EQ168 | light, exam | NF |  | 30 | 39 | Refined equipment time to reflect typical use exclusive to patient.
|  |  | Annual Laser Service Package | NF |  | 1 | 0 | Included in equipment cost per minute calculation.
|  | L037D | RN/LPN/MTA | NF | Monitor pt. following service/check tubes, monitors, drains | 3 | 1 | CMS clinical review.
|  | L037D | RN/LPN/MTA | NF | Clean room/equipment by physician staff | 3 | 2 | CMS clinical review.
|  | SF028 | laser tip (single use) | NF |  | 1 | 0 | CMS clinical review.
97150 | Group therapeutic procedures | EQ248 | ultrasonic biometry, pachymeter | NF |  | 10 | 5 | Refined equipment time to reflect typical use exclusive to patient.
|  | EQ269 | blood pressure monitor, ambulatory, w-battery charger | NF |  | 1 | 0 | CMS clinical review.
|  | SA007 | kit, cooking activity ingredients (mac-cheese) | NF |  | 1 | 0 | CMS clinical review.
99495 | Trans care mgmt 14 day disch | L042A | RN/LPN | F | Communication (with patient, family members, guardian or caretaker, surrogate decision makers, and/or other professionals) regarding aspects of care, etc. | 0 | 45 | CMS clinical review.
99496 | Trans care mgmt 7 day disch | L042A | RN/LPN | NF | Communication (with patient, family members, guardian or caretaker, surrogate decision makers, and/or other professionals) regarding aspects of care, etc. | 60 | 70 | CMS clinical review.
|  | L042A | RN/LPN | F | Communication (with patient, family members, guardian or caretaker, surrogate decision makers, and/or other professionals) regarding aspects of care, etc. | 0 | 70 | CMS clinical review.

17. On page 69138,

a. Top two thirds of the page, first column, first full paragraph, line 1, the phrase “The CY 2013 PFS CF is $25.0008” is corrected to read “The CY 2013 PFS CF is $25.0070.”

b. Third column, first full paragraph, line 19, the phrase CF to be $25.0008” is corrected to read “CF to be $25.0070.”

c. Lower half of the page, in Table 87: Calculation of the CY 2013 PFS CF, the list entry

CY 2013 Conversion Factor |  | $25.0008

is corrected to read as follows:

CY 2013 Conversion Factor |  | $25.0070

18. On page 69139, top quarter of the page, in Table 88: Calculation of the CY 2013 Anesthesia CF, the list entry

CY 2013 Anesthesia Factor |  | $15.93

is corrected to read as follows:

CY 2013 Anesthesia Factor |  | $16.1236

19. On page 69145, second column, first partial paragraph, lines 20 and 21, the phrase that reads “pharmacy for use upon a physician's order” is corrected to read “pharmacy for use upon a valid prescription.”

20. On page 69212, second column, first full paragraph, lines 5-8, the phrase “Measure 190: Referral for Otologic Evaluation for Patients with Acute or Chronic Dizziness” is corrected to read “Measure 190: Referral for Otologic Evaluation for Patients with a History of Sudden or Rapidly Progressive Hearing Loss.”

21. On page 69237, in Table 95: Individual Quality Measures for the Physician Quality Reporting System Proposed to be Available for Reporting via Claims, Registry, EHR, or GRPO Web Interface Beginning in 2013 or 2014*, Measures #189 and #190 are deleted.

22. On page 69267, after Table 95: Individual Quality Measures for the Physician Quality Reporting System Proposed to be Available for Reporting via Claims, Registry, EHR, or GRPO Web Interface Beginning in 2013 or 2014*, the following note is added:

*Measures that can be reported using the GPRO web interface.

†These measures can only be reported by participants using the GPRO. They are not available for reporting for individual Eligible Professionals using this reporting method.

¥ Titles and descriptions in this table are aligned with 2013 Physician Quality Reporting System Claims and Qualified Registry measure titles and descriptions, and may differ from existing measures in other programs. Please reference the National Quality Forum (NQF) and Physician Quality Reporting System numbers for clarification.

⋄Measures to be deleted in 2014.

‡Measures to be added in 2013.

○Measures to be added in 2014.

23. On page 69269, in Table 96: PQRS Quality Measures Available for Reporting for Group Practices Using the GPRO Web Interface for 2013 and Beyond, in the Measure and Title description for NQF/PQRS 0097/46 the phrase that reads “seen within 60 days following discharge” is corrected to read “seen within 30 days following discharge.”

24. On page 69277, in Table 108: HIV/AIDS Measures Group, the following measures: HIV/AIDS Measures Group: PQRS Measure #206 (“HIV/AIDS: Screening for High Risk Sexual Behaviors”) and #207 (“HIV/AIDS: Screening for Injection Drug Use”) are deleted.

25. On page 69300,

a. Third column, line 22-23, the phrase “a deadline of February 28, 2013 to request an informal review” is corrected to read “a deadline of 90 days following the receipt of the feedback reports to request an informal review.”

b. Lines 27-28, the phrase “a deadline of February 28, 2014 to request an informal review” is corrected to read “a deadline of 90 days following the receipt of the feedback reports to request an informal review.”

26. On pages 69344 through 69345, we are correcting Table 134: CY 2013 PFS Final Rule with Comment Period Estimated Impact on Total Allowed Charges by Specialty* and the first footnote (*) that reads: *Table 83 shows only the final payment policy impact on PFS services. We note that these impacts do not include the effects of the negative January 2013 conversion factor change under current law.” to read as follows:

Table 134—CY 2013 Final Rule With Comment Period Estimated Impact on Total Allowed Charges by Specialty *
[Estimated impact for RVU changes *]
Specialty | Allowed charges (mil) | Impact of work and MP RVU changes % | Impact of PE RVU changes % | Combined impact %
(A) | (B) | (C) | (D) | (E)
TOTAL | $86,384 | 0 | 0 | 0
01-ALLERGY/IMMUNOLOGY | 200 | 0 | 2 | 2
02-ANESTHESIOLOGY | 1,817 | 0 | 2 | 2
03-CARDIAC SURGERY | 369 | 0 | −1 | −1
04-CARDIOLOGY | 6,733 | −1 | −2 | −2
05-COLON AND RECTAL SURGERY | 153 | 0 | 2 | 2
06-CRITICAL CARE | 263 | 0 | 1 | 1
07-DERMATOLOGY | 3,024 | 0 | 0 | 0
08-EMERGENCY MEDICINE | 2,839 | 0 | 0 | 0
09-ENDOCRINOLOGY | 437 | 0 | 1 | 1
10-FAMILY PRACTICE | 5,943 | 2 | 5 | 7
11-GASTROENTEROLOGY | 1,896 | 0 | 0 | 0
12-GENERAL PRACTICE | 587 | 0 | 1 | 1
13-GENERAL SURGERY | 2,283 | 0 | 1 | 1
14-GERIATRICS | 220 | 1 | 3 | 5
15-HAND SURGERY | 135 | 0 | 1 | 1
16-HEMATOLOGY/ONCOLOGY | 1,909 | 0 | 2 | 2
17-INFECTIOUS DISEASE | 629 | 0 | 1 | 1
18-INTERNAL MEDICINE | 11,163 | 1 | 3 | 5
19-INTERVENTIONAL PAIN MGMT | 538 | 0 | 1 | 1
20-INTERVENTIONAL RADIOLOGY | 204 | 0 | −2 | −3
21-MULTISPECIALTY CLINIC/OTHER PHY | 81 | 0 | 0 | 0
22-NEPHROLOGY | 2,080 | 0 | 0 | 0
23-NEUROLOGY | 1,604 | −2 | −5 | −7
24-NEUROSURGERY | 687 | 0 | 0 | 0
25-NUCLEAR MEDICINE | 49 | 0 | −2 | −3
27-OBSTETRICS/GYNECOLOGY | 704 | 0 | 0 | 0
28-OPHTHALMOLOGY | 5,645 | −3 | 0 | −3
29-ORTHOPEDIC SURGERY | 3,643 | 0 | 0 | 0
30-OTOLARNGOLOGY | 1,076 | 0 | 2 | 2
31-PATHOLOGY | 1,210 | 0 | −6 | −6
32-PEDIATRICS | 65 | 1 | 3 | 3
33-PHYSICAL MEDICINE | 999 | −1 | −3 | −4
34-PLASTIC SURGERY | 356 | 0 | 1 | 1
35-PSYCHIATRY | 1,170 | −1 | 3 | 2
36-PULMONARY DISEASE | 1,703 | 0 | 1 | 1
37-RADIATION ONCOLOGY | 1,988 | 0 | −7 | −7
38-RADIOLOGY | 4,818 | 0 | −3 | −3
39-RHEUMATOLOGY | 548 | 0 | 0 | 0
40-THORACIC SURGERY | 343 | 0 | −1 | −1
41-UROLOGY | 1,918 | 0 | −1 | −2
42-VASCULAR SURGERY | 888 | 0 | −2 | −2
43-AUDIOLOGIST | 57 | 0 | −4 | −4
44-CHIROPRACTOR | 746 | 0 | 1 | 1
45-CLINICAL PSYCHOLOGIST | 575 | 1 | −3 | −2
46-CLINICAL SOCIAL WORKER | 406 | 1 | −3 | −2
47-DIAGNOSTIC TESTING FACILITY | 888 | 0 | −7 | −7
48-INDEPENDENT LABORATORY | 1,073 | 0 | −14 | −14
49-NURSE ANES/ANES ASST | 1,008 | 0 | 2 | 2
50-NURSE PRACTITIONER | 1,623 | 1 | 3 | 4
51-OPTOMETRY | 1,061 | −1 | 1 | 1
52-ORAL/MAXILLOFACIAL SURGERY | 45 | 0 | 1 | 1
53-PHYSICAL/OCCUPATIONAL THERAPY | 2,636 | 0 | 4 | 4
54-PHYSICIAN ASSISTANT | 1,229 | 1 | 2 | 3
55-PODIATRY | 1,925 | 0 | 2 | 2
56-PORTABLE X-RAY SUPPLIER | 106 | 0 | 5 | 5
57-RADIATION THERAPY CENTERS | 72 | 0 | −9 | −9
98-OTHER | 19 | 0 | 1 | 1
* Table 134 shows only the final payment policy impact on PFS services. We note that these impacts do not include the effects of the negative January 2013 conversion factor change under current law.

27. On pages 69347 through 69348, we are correcting Table 135: CY 2013 PFS Final Rule with Comment Period Estimated Impact on Total Allowed Charges by Specialty by Selected Policy* and the text in the first footnote (*) for Table 135 that reads “*Table 135 shows only the proposed payment policy impact on PFS services. We note that these impacts do not include the effects of the negative January 2013 conversion factor change under current law.” to read as follows:

Table 135—CY 2013 PFS Final Rule With Comment Period Estimated Impact on Total Allowed Charges by Specialty by Selected Policy* Estimated Impact for RVU Changes*
Specialty | Allowed charges (mil) | Impact of end of PPIS transition % | New, revised, potentially misvalued codes, MPPR, new utilization and other factors % | Updated equipment interest rate assumption % | Transitional care management % | Input changes for certain radiation therapy procedures % | Total (cumulative impact) %
(A) | (B) | (C) | (D) | (E) | (F) | (G) | (H)
TOTAL | 86,384 | 0 | 0 | 0 | 0 | 0 | 0
01-ALLERGY/IMMUNOLOGY | 200 | 0 | 0 | 2 | 0 | 0 | 2
02-ANESTHESIOLOGY | 1,817 | 1 | 1 | 0 | 0 | 0 | 2
03-CARDIAC SURGERY | 369 | −1 | 0 | 0 | 0 | 0 | −1
04-CARDIOLOGY | 6,733 | −2 | 0 | 0 | −1 | 0 | −2
05-COLON AND RECTAL SURGERY | 153 | 1 | 0 | 0 | 0 | 0 | 2
06-CRITICAL CARE | 263 | 0 | 0 | 0 | 0 | 0 | 1
07-DERMATOLOGY | 3,024 | 0 | 0 | 1 | −1 | 0 | 0
08-EMERGENCY MEDICINE | 2,839 | 0 | 0 | 0 | 0 | 0 | 0
09-ENDOCRINOLOGY | 437 | 1 | 1 | 0 | −1 | 0 | 1
10-FAMILY PRACTICE | 5,943 | 1 | 1 | 0 | 4 | 0 | 7
11-GASTROENTEROLOGY | 1,896 | 0 | 0 | 0 | 0 | 0 | 0
12-GENERAL PRACTICE | 587 | 1 | 0 | 0 | −1 | 0 | 1
13-GENERAL SURGERY | 2,283 | 1 | 0 | 0 | 0 | 0 | 1
14-GERIATRICS | 220 | 1 | 1 | 0 | 2 | 0 | 5
15-HAND SURGERY | 135 | 1 | 0 | 0 | −1 | 0 | 1
16-HEMATOLOGY/ONCOLOGY | 1,909 | −1 | 3 | 1 | −1 | 0 | 2
17-INFECTIOUS DISEASE | 629 | 1 | 1 | 0 | 0 | 0 | 1
18-INTERNAL MEDICINE | 11,163 | 1 | 1 | 0 | 3 | 0 | 5
19-INTERVENTIONAL PAIN MGMT | 538 | 1 | 0 | 0 | −1 | 0 | 1
20-INTERVENTIONAL RADIOLOGY | 204 | −2 | 0 | 0 | 0 | 0 | −3
21-MULTISPECIALTY CLINIC/OTHER PHY | 81 | 0 | 0 | 0 | 0 | 0 | 0
22-NEPHROLOGY | 2,080 | 0 | 0 | 0 | 0 | 0 | 0
23-NEUROLOGY | 1,604 | 1 | −8 | 0 | 0 | 0 | −7
24-NEUROSURGERY | 687 | 0 | 0 | 0 | 0 | 0 | 0
25-NUCLEAR MEDICINE | 49 | −2 | 0 | −1 | 0 | 0 | −3
27-OBSTETRICS/GYNECOLOGY | 704 | 0 | 0 | 0 | −1 | 0 | 0
28-OPHTHALMOLOGY | 5,645 | 2 | −4 | 0 | 0 | 0 | −3
29-ORTHOPEDIC SURGERY | 3,643 | 1 | 0 | 0 | 0 | 0 | 0
30-OTOLARNGOLOGY | 1,076 | 1 | 1 | 1 | −1 | 0 | 2
31-PATHOLOGY | 1,210 | −1 | −5 | 0 | 0 | 0 | −6
32-PEDIATRICS | 65 | 1 | 0 | 0 | 3 | 0 | 3
33-PHYSICAL MEDICINE | 999 | 1 | −5 | 0 | −1 | 0 | −4
34-PLASTIC SURGERY | $356 | 1 | 0 | 0 | 0 | 0 | 1
35-PSYCHIATRY | 1,170 | 0 | 2 | 0 | −1 | 0 | 2
36-PULMONARY DISEASE | 1,703 | 0 | 1 | 0 | −1 | 0 | 1
37-RADIATION ONCOLOGY | 1,988 | −4 | 2 | −3 | −1 | −1 | −7
38-RADIOLOGY | 4,818 | −2 | 0 | −1 | 0 | 0 | −3
39-RHEUMATOLOGY | 548 | 0 | 1 | 0 | −1 | 0 | 0
40-THORACIC SURGERY | 343 | −1 | 0 | 0 | 0 | 0 | −1
41-UROLOGY | 1,918 | −2 | 0 | 0 | −1 | 0 | −2
42-VASCULAR SURGERY | 888 | −1 | −1 | 0 | 0 | 0 | −2
43-AUDIOLOGIST | 57 | −3 | 0 | 0 | 0 | 0 | −4
44-CHIROPRACTOR | 746 | 1 | 0 | 0 | 0 | 0 | 1
45-CLINICAL PSYCHOLOGIST | 575 | −2 | 1 | 0 | 0 | 0 | −2
46-CLINICAL SOCIAL WORKER | 406 | −2 | 0 | 0 | 0 | 0 | −2
47-DIAGNOSTIC TESTING FACILITY | 888 | −5 | 0 | −2 | −1 | 0 | −7
48-INDEPENDENT LABORATORY | 1,073 | −2 | −12 | 1 | −1 | 0 | −14
49-NURSE ANES/ANES ASST | 1,008 | 2 | 0 | 0 | 0 | 0 | 2
50-NURSE PRACTITIONER | 1,623 | 1 | 1 | 0 | 2 | 0 | 4
51-OPTOMETRY | 1,061 | 2 | −1 | 0 | 0 | 0 | 1
52-ORAL/MAXILLOFACIAL SURGERY | 45 | 1 | 0 | 1 | −1 | 0 | 1
53-PHYSICAL/OCCUPATIONAL THERAPY | 2,636 | 2 | 2 | 0 | 0 | 0 | 4
54-PHYSICIAN ASSISTANT | 1,229 | 1 | 0 | 0 | 2 | 0 | 3
55-PODIATRY | 1,925 | 2 | 0 | 1 | −1 | 0 | 2
56-PORTABLE X-RAY SUPPLIER | 106 | 1 | 4 | 1 | −1 | 0 | 5
57-RADIATION THERAPY CENTERS | 72 | −5 | 4 | −5 | −1 | −1 | −9
98-OTHER | 19 | 1 | 0 | 0 | 0 | 0 | 1
“*Table 135 shows only the final payment policy impact on PFS services. We note that these impacts do not include the effects of the negative January 2013 conversion factor change under current law.”

28. On pages 69350 through 69351, we are correcting Table 136 Impact of Final Rule with Comment Period on CY 2013 Payment for Selected Procedures* to read as follows:

29. On page 69351,

a. Footnote 3 “Payments based on the 2012 conversion factor of 34.0376, adjusted to 34.0066 to include the budget neutrality adjustment” is corrected to read “Payments based on the 2012 conversion factor of 34.0376, adjusted to 34.0230 to include the budget neutrality adjustment.”

b. Footnote 4 for Table 136 “Payments based on the 2013 conversion factor of 25.0008, which includes the budget neutrality adjustment” is corrected to read “Payments based on the 2013 conversion factor of 25.0070, which includes the budget neutrality adjustment.”

(Catalog of Federal Domestic Assistance Program No. 93.773, Medicare—Hospital Insurance; and Program No. 93.774, Medicare—Supplementary Medical Insurance Program)

Dated: August 2, 2013.
Jennifer M. Cannistra,
Executive Secretary to the Department, Department of Health and Human Services.

[FR Doc. 2013-19378 Filed 8-9-13; 8:45 am]

BILLING CODE 4120-01-P